DEPARTMENT OF EDUCATION

34 CFR Chapter II

[Docket ID ED-2023-OESE-0209]

Comprehensive Centers Program

AGENCY: Office of Elementary and Secondary Education, Department of Education.

ACTION: Final priorities, requirements, definitions, and selection criteria.

SUMMARY: The Department of Education (Department) announces priorities, requirements, definitions, and selection criteria under the Comprehensive Centers Program, Assistance Listing Number 84.283B. The Department may use one or more of these priorities, requirements, definitions, and selection criteria for competitions in fiscal year (FY) 2024 and in later years. The Department establishes these priorities, requirements, definitions, and selection criteria to help ensure that Comprehensive Centers provide high-quality capacity-building services to State, regional, Tribal and local educational agencies and schools that improve educational opportunities and outcomes, close achievement gaps, and improve the quality of instruction for all students.

DATES: These priorities, requirements, definitions, and selection criteria are effective June 12, 2024.

FOR FURTHER INFORMATION CONTACT: Dr. Michelle Daley. Telephone: (202) 987-1057. Email: OESE.ComprehensiveCenters@ed.gov.

If you are deaf, hard of hearing, or have a speech disability and wish to access telecommunications relay services, please dial 7-1-1.

SUPPLEMENTARY INFORMATION:

Purpose of Program: The Comprehensive Centers Program supports the establishment of Comprehensive Centers to provide capacity-building services to State educational agencies (SEAs), regional educational agencies (REAs), local educational agencies (LEAs), and schools that improve educational opportunities and outcomes, close achievement gaps, and improve the quality of instruction for all students, particularly for groups of students with the greatest need, including students from low-income families and students attending schools implementing comprehensive support and improvement or targeted or additional targeted support and improvement activities under section 1111(d) of the Elementary and Secondary Education Act of 1965, as amended (ESEA).

Program Authority: Section 203 of the Educational Technical Assistance Act of 2002 (ETAA) (20 U.S.C. 9601 et seq.).

The Department published a notice of proposed priorities, requirements, definitions, and selection criteria for this program in the Federal Register on January 23, 2024 (89 FR 4228) (the NPP). That document contained background information and reasons for proposing the priorities, requirements, definitions, and selection criteria.

Public Comment: In response to the invitation in the NPP, we received 45 comments on the proposed priorities, requirements, definitions, and selection criteria. We discuss substantive issues under each priority, requirement, definition, or selection criteria to which they pertain. We first discuss general issues and then group specific comments according to subject. Generally, we do not address technical and other minor changes or suggested changes the law does not authorize us to make. In addition, we do not address comments that are outside the scope of the proposed priorities, requirements, definitions, and selection criteria. We also describe below additional changes the Department made to the priorities and selection criteria following internal review.

Analysis of Comments and Changes: An analysis of the comments and of any changes in the priorities, requirements, definitions, and selection criteria since publication of the NPP follow.

General Comments; Priorities

Comment: One commenter provided broad support for the proposed priorities, requirements, definitions, and selection criteria, particularly noting support for the foci and priorities designed to ensure that Comprehensive Centers provide support and assistance to schools and students with the greatest need, as well as the focus on ensuring that the work of the Centers is responsive to the needs of schools, districts, and States by requiring stakeholder engagement and needs-sensing activities. The commenter also had several recommendations regarding the upcoming Comprehensive Centers competition, including ensuring that Centers support each State, including rural and Tribal communities, and that the program include a unifying body that assists with coordination of efforts across all Centers and is nimble enough to address emerging issues and needs.

Discussion: We appreciate the support and feedback from the commenter and agree with their recommendations. We believe that the recommendations are addressed by the priorities, requirements, definitions, and selection criteria, and that no changes are needed in that regard. In particular, we note that through Priority 2 titled “Regional Centers,” the Comprehensive Centers program is designed to support all States, and its services must address the unique educational obstacles faced by underserved populations, including students living in rural areas and Tribal students. Through Priority 1 titled “National Comprehensive Center,” we intend to establish and implement a unifying National Center with specific requirements for coordinating work across all Centers while also reserving resources to address emerging needs. Additionally, Program Requirement 8, for all Centers, requires an annual set-aside of five percent of the grant amount to support emerging needs which ensures that all Centers retain flexibility to address needs that may emerge throughout the grant cycle.

Changes: None.

Comment: One commenter expressed support for the language in Priority 1 requiring that the approach to capacity-building be driven by adult learning strategies and incorporate implementation, improvement, and systems change frameworks. The commenter further stated that this approach is imperative to the work of the Regional Centers and Content Centers and recommended that the same language be included in Priorities 2 and 3.

Discussion: The Department appreciates the support for this language and agrees with the commenter that all Centers should incorporate in their work adult learning principles and implementation, improvement, and systems change frameworks in order to most effectively support clients. The importance of this approach to providing high-quality capacity-building services is not unique to the National Center. Accordingly, we are adding this requirement to Priority 2 and Priority 3. Additionally, we update the priority language referring to adult learning strategies to “adult learning principles” to align with the language used in the program and application requirements.

Changes: We have revised Priorities 2 and 3 to include reference to adult learning principles and implementation, improvement, and systems change frameworks.

Comment: One commenter expressed support for the focus on continuous improvement throughout the Comprehensive Centers program, and particularly in the definition of “capacity building,” as used in Program Requirement 3 and Application Requirement 4. The commenter also recommended that, throughout the priorities, requirements, and selection criteria, wherever we reference the selection, implementation, and scaling up of evidence-based practices or approaches, we add reference to “continuous improvement.”

Discussion: We appreciate the commenter's feedback and support for the program's focus on continuous improvement and its inclusion in our definition of “capacity-building services”. We believe that continuous improvement is inherently part of implementing evidence-based practices or approaches. Comprehensive Centers build the capacity of their clients to implement evidence-based practices through planning and implementing interventions, and in collaboration with Regional Educational Laboratories (RELs), studying or evaluating their efficacy, and acting on that information to continuously improve practices or approaches. In particular, as we note above, we are adding language to Priority 2 and Priority 3 on the need for Centers' work to be driven by implementation science, improvement science, and systems change frameworks, which all include elements of continuous improvement as central to successful implementation, improvement, or systems change. Accordingly, we believe that, both as proposed and with the additions to Priority 2 and Priority 3, the priorities for each Center encompass the work of continuous improvement within how we define capacity-building services, how Centers design capacity-building services, and how we prioritize support for implementation of evidence-based practices or approaches and, therefore, no further changes are necessary.

Changes: None.

Comments: Two commenters expressed support for the inclusion of Tribal education in the Comprehensive Centers program. One commenter expressed general support for a deeper inclusion of Tribal communities and governments, and another provided specific support of the inclusion of Tribal Education Agencies (TEAs) as eligible beneficiaries of Comprehensive Center services.

Discussion: We appreciate the support for the inclusion of Tribal communities and governments overall and of TEAs as clients and recipients of Comprehensive Center program services specifically.

Changes: None.

Comment: One commenter noted the importance of serving the needs of immigrant students through the Comprehensive Centers program, including in the areas of digital literacy and access.

Discussion: We agree with the commenter on the importance of serving the needs of immigrant students and note that this priority was also identified by the Regional Advisory Committees. The Department believes that this focus is captured within the scope of the priorities. Specifically, Priority 2 requires each Regional Center to provide capacity-building services to assist clients and recipients in addressing the unique educational obstacles faced by underserved populations, including immigrant children and youth. Priority 3 provides for operation of Content Centers, including a Center in the area of English Learners and Multilingualism, which are also likely to further serve the needs of immigrant students. Priority 1 also includes support for emerging education topics of national importance not being met by other federally funded technical assistance (TA) providers, which could include emerging topics such as digital literacy and access. The Department has added to the examples listed in this priority to include support strategies for promoting digital literacy and access.

Changes: The Department has added language to Priority 1 to include examples of emerging needs related to digital literacy and access.

Comments: One commenter noted the importance of non-teacher faculty in supporting underserved students, particularly students who are migratory children. The commenter suggested that the Department more explicitly address how the needs of underserved students, particularly those who are migratory children, will be met on an individual level.

Discussion: We appreciate the commenter's feedback and recommendations. Priority 2 requires services to be provided to address the unique educational obstacles faced by underserved populations, including migratory children. The Program Requirements for all Centers require Centers to plan and deliver services in response to educational challenges facing students, practitioners, and education system leaders, and in developing their annual service plans to ensure services are provided to support students and communities with the highest needs, including recipients serving student populations with demonstrated needs unmet or under-met through other Federal, State, or local interventions. We believe these provisions enable Centers to provide needed support for specific student populations, including students who are migratory.

Changes: None.

Comment: One commenter emphasized the importance of those working within the field of Indian Education to be aware of the treaties between the Federal Government and Indian Tribes regarding education.

Discussion: The Department agrees that Comprehensive Centers must have appropriate experience and expertise to adequately support their clients, including awareness of educational laws, regulations, and policies that impact their clients. We note that Priorities 1 and 2, for the National and Regional Centers, respectively, include language related to the role of the Centers in addressing the unique educational obstacles faced by Tribal students. The priorities, requirements, and definitions outline several ways in which the Comprehensive Centers program grantees may work with TEAs as clients. Additionally, Priority 2 establishes a Regional Center focusing on serving the Bureau of Indian Education. Program Requirement 2 for all Centers further requires Centers to develop and implement capacity-building services to reflect and address specific client needs and contexts. Application Requirement 3 for all Centers requires Centers to demonstrate appropriate subject matter expertise, which includes expert knowledge of statutory requirements, regulations, and policies related to ESEA programs, current education issues, and policy initiatives, as well as demonstrated experience in content areas for which they are engaged as experts. Finally, the selection criteria evaluate the extent to which Regional Centers applicants demonstrate that the proposed approach to capacity building would address key areas of identified client need, which may include the needs of TEA clients and other clients serving Tribal students. In responding to the criteria, applicants are asked to demonstrate in-depth knowledge and understanding of the specific educational goals and priorities of the Center's clients, including the client's demographics and policy contexts. The criterion focused on subject matter expertise will also allow the Department to evaluate the degree to which applicants have the appropriate subject matter expertise and experience to serve their intended clients. The Department believes that these combined elements will ensure that Comprehensive Centers program grantees have the appropriate experience and expertise to support clients in addressing the needs of Tribal students.

Changes: None.

Comment: One commenter expressed support for the current work of the National Center and Regional Center partners related to afterschool and summer programming. The commenter also expressed support for the emphasis in Priority 2 on supporting clients in implementing, scaling-up, and sustaining evidence-based practices and interventions to improve core instruction. The commenter requested that the Centers work to build on current research in the science of learning and development to support high-quality afterschool and summer programs.

Discussion: We share the commenters' interest in assisting SEAs and LEAs in supporting afterschool and summer programming. The Department supports using current research and successful models in the field to ensure all students have access to quality afterschool and summer learning opportunities. We believe that work proposed under Priority 2 and Priority 1 will promote the use of evidence-based practices in key initiatives to accelerate academic recovery in math and literacy that may include high-impact tutoring, high-quality summer and after-school programming, and effective interventions to reduce chronic absenteeism.

Changes: None.

Comment: One commenter made suggestions for how Comprehensive Centers could better support SEAs in implementing ESEA programs. The commenter noted that an important need of the SEAs is improving data reporting, including improving capacity for data validation, streamlining data systems, planning data collection, communicating these requirements to LEAs and schools, and overall data quality. The commenter also requested assistance for SEAs in implementing resource allocation reviews and in communicating with the Department regarding data reporting requirements.

Discussion: The Department appreciates the commenter's suggestions regarding how the Comprehensive Centers can improve SEA capacity to collect and report data, which will improve the SEAs' implementation and evaluation of ESEA programs. The Department agrees that the Comprehensive Centers, and particularly the Regional Centers, should support SEAs with improving their data collection practices and support to LEAs. The Department has added language to Priority 2 to include support for data collection and reporting activities. The Department notes the existing requirements related to consultation with SEA leaders in determining the greatest client needs. This would include addressing issues identified by the Department and its data reporting contractors. The Department additionally supports the suggestion that Centers should support resource allocation reviews. As discussed elsewhere in this document, the Department has added language to Priority 1 and Priority 2 to underscore the importance of supporting resource allocation reviews.

Changes: The Department has added language to Priority 2 to include capacity-building services that assist clients and recipients in collecting and reporting data on ESEA programs.

Comment: One commenter noted the important role of the National Center and Regional Centers in supporting school support and improvement activities, including resource allocation reviews, as outlined in section 1111(d)(3)(A)(ii) of the ESEA. Additionally, the commenter suggested that the Center on Fiscal Equity should also play a role in identifying best practices regarding fiscal equity components of school improvement support to SEAs and LEAs. The commenter noted a report from the Government Accountabilty Office that indicated the need for greater support from the Department to assist SEAs and LEAs in complying with the school improvement and resource equity requirements specified in the section 1111(d) of the ESEA. The commenter noted specifically the need for support regarding the inclusion of needs assessments, evidence-based interventions, and identifying resource inequities in improvement plans and ensuring adequate and equitable funding is available to identified schools to carry over improvement activities.

Discussion: The Department appreciates the commenter's support for the important role of the National Center, Regional Centers, and Center on Fiscal Equity in supporting SEAs and LEAs in meeting school improvement requirements under section 1111(d) of the ESEA. The Department also appreciates the commenter's support of the Department's emphasis on serving (1) recipients with high percentages students from low-income families and (2) students attending schools implementing comprehensive support and improvement or targeted or additional targeted support and improvement activities under section 1111(d) of the ESEA. The Department agrees that the Center on Fiscal Equity has an important role to support all Comprehensive Centers in understanding and designing services related to the adequate and equitable funding for schools implementing comprehensive support and improvement or targeted or additional targeted support and improvement activities under section 1111(d) of the ESEA. The Department also notes the inclusion and importance of support for resource allocation reviews described in section 1111(d)(3)(A)(ii) of the ESEA in Priority 1 and Priority 2. In response to the commenter's general feedback, as discussed elsewhere in this document, the Department added language to emphasize supporting resource allocation reviews in Priority 1 and Priority 2, and added language to Priority 3 to signify the important role of the Center on Fiscal Equity in supporting resource equity requirements.

Changes: The Department has added language to Priority 1 and Priority 2 to include a focus on support for implementing resource allocation reviews required in section 1111(d)(3)(A)(ii) of the ESEA. Additionally, the Department has added language to Priority 3 for the Center on Fiscal Equity to include schools implementing comprehensive support and improvement or targeted or additional targeted support and improvement activities under section 1111(d) of the ESEA.

Priority 1—National Comprehensive Center

Comment: One commenter requested that the Department reconsider the National Center's role in providing targeted supports and suggested instead that the National Center would be more effectively positioned to focus on providing universal supports, disseminating the work done by other Centers and as a primary coordination point.

Discussion: We appreciate the feedback from the commenter and agree with their emphasis on the importance of the National Center as a point of coordination and dissemination for the Comprehensive Centers program as a whole. However, we disagree that the National Center should focus solely on universal supports and not on providing targeted support. Under Priority 1 the National Center will provide subject matter expertise on and capacity-building services related to several topics of national importance including addressing unique educational obstacles faced by rural and Tribal students; implementing and scaling up evidence-based programs, practices, and interventions that improve instruction and outcomes in core subjects including math and literacy instruction; implementing school improvement and State accountability and assessment systems; and other emerging needs. While States will work first with their Regional Center, it is critical that the National Center, as a locus of expertise in these topics, is available to work with other Centers when there is a need for cross-regional coordination to provide targeted support in the areas in which the National Center has significant subject matter expertise. As defined, “targeted capacity-building services” can include, for example, strategic planning events, national and regional conferences, learning series, and communities of practice. We believe that this type of support is critical to the role of the National Center and the goals of the program and therefore decline to focus the National Center solely on the provision of universal supports.

Changes: None.

Comment: One commenter provided broad support for the work of the existing National Center and noted that creating a centralized hub has improved efficiency and coordination in the TA system of the Comprehensive Centers Programs.

Discussion: We appreciate the commenter's support for the National Center and note that through Priority 1 the Department will continue to establish and operate a National Center that will coordinate work across the network, among other responsibilities.

Changes: None.

Comment: One commenter recommended that we specify in Priority 1 that the National Center will support SEAs to conduct resource allocation reviews required by section 1111(d)(3)(A)(ii) of the ESEA.

Discussion: The Department agrees with the importance of providing services to support SEAs in implementing resource allocation reviews and has added language to emphasize this activity in Priority 1 as an example of how the National Center may provide services to support SEAs to implement State accountability and assessment systems consistent with title I, part A of the ESEA (ESEA section 1111(b)-(d)). Additionally, we note that the Center on Fiscal Equity will provide targeted and universal capacity building services for strengthening equitable and adequate resource allocation strategies, including for schools implementing comprehensive support and improvement or targeted or additional targeted support and improvement activities under section 1111(d) of the ESEA, which may relate to services the National Center provides to States implementing this requirement under section 1111(d)(3)(A)(ii) of the ESEA. We have updated Priority 3 to reflect necessary collaboration with the National Center to support coordination of these services.

Changes: We have revised Priority 1 to highlight activities related to resource allocation reviews that an applicant may conduct under this priority and have revised Priority 3 to include collaborating with the National Center to provide services to meet this requirement.

Comment: One commenter expressed support for the focus in Priority 1 on addressing the unique educational challenges, and improving the outcomes, of schools implementing comprehensive support and improvement activities or targeted or additional targeted support and improvement activities under title I, part A of the ESEA (ESEA sec. 1111(d)) and their students. This commenter recommended that the Department include additional examples of how the National Center may help address these needs, including through needs assessments to diagnose challenges and resource inequities, identifying and implementing evidence-based interventions, and monitoring progress and taking corrective action.

Discussion: The Department appreciates the support for the inclusion of activities to support school improvement in Priority 1 for the National Center and agrees that the specified activities would be acceptable and appropriate strategies to address the unique educational challenges and improve outcomes of schools implementing comprehensive support and improvement activities, or targeted or additional targeted support and improvement activities. Because these activities are already allowable under the priority as written, the Department does not believe it necessary to revise Priority 1 to include the specified examples.

Changes: None.

Priority 2—Regional Centers

Comments: Several commenters provided feedback on the allocation of funding to Centers, particularly Regional Centers. Specifically, two commenters requested information on the Department's approach to funding levels for each Center. One commenter emphasized the importance of funding each Center commensurate to its project scope and requested that the Department provide estimated funding levels for each of the proposed Centers. Another commenter requested information on the method of allocating funding across each Center and encouraged the Department to request additional funding for the program in the future. Another commenter generally noted the importance of ensuring sufficient funds for each Regional Center to deliver intensive and impactful capacity-building services. Three commenters suggested specific factors that the Department should consider when allocating funds, with two recommending that the Department consider the number of States and the geography of a region in determining allocations, and one recommending that the Department consider the cost of travel.

Discussion: We appreciate the interest in funding levels from the commenters. However, we do not include specific funding estimates in the priority for each type of Center. For any fiscal year in which we use one of these final priorities, the Notice Inviting Applications (NIA) will specify the funding available and estimated for each Center. We note that under section 203 of the ETAA, the Department is required, when awarding grants to Regional Centers, to establish one Center in each of the 10 geographic regions served by the RELs. In addition, the Department considers additional factors named in the ETAA when awarding grants such as school-age population, proportion of economically disadvantaged students, the cost burdens of service delivery in areas of sparse population, and the number of schools implementing comprehensive support and improvement activities and targeted support and improvement activities. Finally, the Department appreciates the commenter's recommendation to request additional funding and will consider the needs of the program in its requests for funding in future years.

Changes: None.

Comment: One commenter shared suggestions for alternative configurations of Regional Centers, including aligning regions with the 10 Federal Emergency Management Agency (FEMA) regions, returning to a previous Comprehensive Centers model that included Regional Centers and “Single State” Centers, or grouping States with similar priorities into regions.

Discussion: Although we appreciate the commenter's recommendations, the ETAA requires the Department to establish at least one Center in each of the 10 geographic regions served by the Department's RELs and to consider other factors indicated in the ETAA including the school-age population, the proportion of economically disadvantaged students, the increased cost burdens of service delivery in areas of sparse population, and the number of schools implementing comprehensive support and improvement activities and targeted support and improvement activities under section 1111(d) of the ESEA when establishing regions under this program. We believe the proposed regional configuration best meets the statutory intent of this program. Additionally, we note that under Priority 1, the National Center may conduct targeted capacity-building services, including strategic planning events, national and regional conferences, learning series, and communities of practice, that convene States not in the same region around a topic of shared importance.

Changes: None.

Comment: Two commenters expressed support for including a Regional Center for the Bureau of Indian Education (BIE).

Discussion: We appreciate the support for the Department's inclusion of a Regional Center serving the BIE.

Changes: None.

Comment: Two commenters expressed support for the larger regions proposed in Priority 2 compared to the existing regional configuration under the Comprehensive Centers program, noting the potential for these regions to increase efficiency. One commenter also highlighted the closer alignment to the REL regions and the potential for this alignment to support coordination and alignment of services and needs sensing across both programs.

Discussion: We appreciate the support from the commenters and feedback on the potential benefits of the revised regional configuration in Priority 2.

Changes: None.

Comments: Two commenters expressed support for the focus on evidence-based projects and programs. One commenter expressed general support for the emphasis on evidence-based learning throughout the document. Another commenter noted the importance of selecting, implementing, and sustaining evidence-based programs in rural and smaller, less resourced organizations and school districts.

Discussion: We appreciate the commenters' support for promoting evidence-based practices in the Comprehensive Centers program, including in support of rural and small organizations and districts. Additionally, the Department would like to clarify examples of key initiatives Centers may focus on in implementing evidence-based practices.

Changes: We have revised Priority 2 to include clarifying changes of evidence-based programs, practices, or interventions that focus on key initiatives that lead to LEAs and schools improving student outcomes.

Comment: One commenter asked the Department to clarify how Regional Centers should develop cost-effective strategies to make their services available to as many SEAs, REAs, TEAs, LEAs, and schools in need of support as possible.

Discussion: We appreciate the comment and note that, to maximize the impact of public funds, all Regional Centers are expected to develop cost-effective strategies to ensure services reach as many SEAs, REAs, TEAs, LEAs, and schools within the region in need of support as possible. Applicants may propose strategies for how they might accomplish this objective within their regions through their approach to capacity building in their response to this priority as well as to the Program Requirements 4 and 6 for all Centers. Additionally, Regional Centers will partner with the National Center to share and disseminate information about Comprehensive Center Network (CCNetwork) services, tools, and resources to maximize the reach of the CCNetwork across clients and education stakeholders. Although the Department believes that applicants are best positioned to identify and develop these strategies given their knowledge of the critical needs of regional clients, the Department will further describe any plans to work with grantees on how to maximize the reach of Comprehensive Center services in its Cooperative Agreements with grantees.

Changes: None.

Comment: One commenter suggested that the Department revise Priority 2 to ensure that Regional Centers provide support to SEAs implementing resource allocation reviews under section 1111(d)(3)(A)(ii) of the ESEA.

Discussion: We agree with the commenter's recommendation. Supporting SEAs in implementing resource allocation reviews is one important way that Regional Centers can support schools implementing comprehensive support and improvement activities or targeted or additional targeted support and improvement activities under section 1111(d) of the ESEA.

Changes: We have revised Priority 2 to include a focus on support for implementing resource allocation reviews under section 1111(d)(3)(A)(ii) of the ESEA.

Comment: One commenter supported the Priority 2 requirement to ensure Regional Centers support SEAs and LEAs to address corrective actions from ESEA program monitoring and recommended that the Department specify that services may be provided in this regard at the request of the Department, or based on recommendation by the Regional Center, in addition to the request of the State.

Discussion: We appreciate the commenter's suggestion and acknowledge that grantees may benefit from the Department or the client's Regional Center recommending or requesting that they receive support in addressing corrective actions or results from audit findings and ESEA program monitoring conducted by the Department. We believe paragraph (4) of Priority 2 permits the Department or a Regional Center to make such recommendations and therefore do not believe it is necessary to revise the priority to address this specific need.

Changes: None.

Comment: One commenter expressed support for Priority 2 and noted that the requirement for Regional Centers to design services in conjunction with State leadership has benefitted the work of Regional Centers in the current grant cycle.

Discussion: We appreciate the support from the commenter and feedback on the benefits of the proposed Comprehensive Center service delivery model and requirement to develop and implement capacity-building services in partnership with State and local clients and recipients.

Changes: None.

Priority 3—Content Centers

Comment: One commenter provided overall support for the priorities, including Priority 3, and encouraged the Department to explicitly consider ways the field of communication sciences and disorders, specifically audiology and speech-language pathology, can support the goals of the Comprehensive Centers program. Additionally, the commenter provided specific feedback on the importance of audiologists and speech language pathologists (SLPs) in relation to the work of the Center for English Learners and Multilingualism and the Center for Early School Success. Specifically, related to the work of the Center for English Learners and Multilingualism, the commenter recommended that the Department consider the role of audiologists and SLPs to ensure access to interpreting services and engagement. Related to the work of the Center for Early School Success, the commenter recommended enhancing the focus of services provided by the Center to address caseload management for practitioners, such as audiologists and SLPs; rural capacity building for accessing school-based services for students who already qualify under Medicaid; and school-based telepractice.

Discussion: We appreciate the commenter's support for the priorities and and as to Priority 3, the feedback related to the importance of the field of communication sciences both broadly and specifically related to the work of the Center for English Learners and Multilingualism and the Center for Early School Success. Through the Comprehensive Centers program, we aim to improve educational outcomes, close achievement gaps, and improve the quality of instruction for all students, particularly those with the greatest need. Based on the Department's experience administering the program and the feedback from the Regional Advisory Committees and others, we believe it is important for all Centers, including Content Centers, to consider a broad universe of resources, practices, and policies that may support these goals. Further, we believe that how Centers focus and deliver capacity-building services must be driven by their needs-sensing activities with clients and recipients and the review of available evidence, and therefore, we decline to explicitly add references to the specific field of communication sciences and disorders in the priorities. Specific to the recommendations related to the Center for Early School Success, we believe it is important to maintain the focus on preschool-third grade learning systems and experiences more broadly to support academic, social, emotional, cognitive, and physical development. We also note that it is not within the scope of the Comprehensive Centers to provide assistance in implementing programs outside of the ESEA; however we do require Centers to partner with each other and other federally funded technical assistance centers to address client needs and note opportunities for the Center for Early School Success to coordinate with the Center on Fiscal Equity to support clients and recipients in considering how ESEA funds may interact with and complement other Federal programs, including Medicaid, to improve student opportunities and outcomes and reduce duplication of services.

Changes: None.

Comment: Several commenters provided broad feedback on the introduction of Content Centers as a priority (Priority 3) and the impact on the overall structure and focus of the Comprehensive Centers program. Feedback from these commenters was mixed, with some expressing support for the inclusion of Content Centers in the Comprehensive Centers program and others expressing concern. For those commenters that supported Priority 3, some noted that the four identified focus areas are important areas of national need, while another expressed that the Content Centers promised to bring critical support responsive to the needs of States and districts. The commenters who disagreed with the inclusion of Content Centers cited concerns related to the impact on Comprehensive Center branding, flexibility, and responsiveness. Specifically, one such commenter expressed concern that identifying focus areas for a five-year cycle was not the best way to respond to emerging needs and instead recommended an approach similar to the current configuration allowing the National Center and Regional Centers flexibility to respond to emerging needs. This same commenter also cited a concern with duplication of efforts in previous Comprehensive Center cohorts that included Content Centers. Another commenter also noted that the Comprehensive Centers program has built familiarity and recognition among SEAs and LEAs and shared concerns that changing the configuration would harm this brand recognition.

Discussion: We appreciate the feedback from commenters on the inclusion of Priority 3. We agree with the comments supporting the four proposed focus areas and on the importance of flexibility, efficiency, and responsiveness to the success of the Comprehensive Centers program. We also appreciate the commenters' concerns about the proposed impacts on the program's brand recognition, service to clients, and ability to maximize flexibility and responsiveness to emerging needs or to provide efficient, high-quality, relevant, and useful services responsive to the needs of clients and recipients. We believe, however, that Priority 3's approach minimizes these concerns. First, the establishment of the Content Centers supports the Comprehensive Center program's ability to provide high-quality capacity-building services in identified areas of high national need. The four focus areas reflect the recommendations of the Regional Advisory Committees and are areas of national need that are likely to retain importance to Comprehensive Center clients and recipients over the entire five-year project period. Regarding the potential impact to the branding of the CCNetwork, we note that the National Center has an explicit requirement in Priority 1 to support consistent branding, communication, and dissemination of products, information, and resources from the CCNetwork and we expect the progress made under the current model to continue with this support. Additionally, throughout these priorities, requirements, definitions and selection criteria, we emphasize the need for the Comprehensive Centers to be nimble to adjust to new or emerging areas of need and note features of this structure that retain the program's ability to address emerging needs, including Priority 1 which requires the National Center to address emerging national needs, and Program Requirement 8 for all Centers that requires each Center to include an annual set-aside of five percent of the grant amount to support emerging needs. This is designed to ensure each Center is able to remain flexible and responsive to needs that arise throughout the project period. We believe that with these elements combined, the CCNetwork will be able to provide high-quality, relevant, and useful capacity-building services to clients and recipients across the country in areas of high national need as well as emerging needs.

Changes: None.

Comment: Several commenters who disagreed with the inclusion of Content Centers cited concerns related to potential confusion of clients on how to access services from Centers within the CCnetwork. One commenter cited a concern with confusion among clients in previous Comprehensive Center cohorts that included Content Centers. Another commenter raised concerns that the introduction of these Centers would make the process of accessing services more complex for clients.

Discussion: We appreciate the commenters' concerns about the proposed impacts of including Content Centers on client access to services. Regarding potential client confusion, we note that Regional Centers will continue to serve as the entry point for States to engage with the CCNetwork, and that it will be through the Regional Centers that the Content Centers will address specific requests for assistance from States within the regions and strengthen Regional Center staff knowledge and expertise on the evidence base and effective practices within its specific content area. Content Centers are also required to consult with and integrate feedback from the Department, the National and Regional Centers in developing their annual service plan to ensure targeted and universal services reflect regional and national needs and to avoid duplication of services. We also note that the National Center has an explicit requirement in Priority 1 to support coordination across the Regional and Content Centers. We believe these requirements focused on consultation, coordination, and collaboration of services, negotiated and coordinated with and through Regional Centers, will minimize client confusion and provide clear opportunities for Center coordination to minimize client burden.

Changes: None.

Comment: Some commenters who disagreed with the inclusion of Content Centers cited concerns related to the impact on Comprehensive Center efficiency and funding. Specifically, one commenter who did not support Priority 3, recommended that if the Department proceeds with it, it should further clarify how the Content Centers will interact with the Regional Centers and the National Center. Another commenter raised concerns that the introduction of these Centers would divert funds from the Regional Centers and National Center, which could limit their services and ability to respond to emerging needs across the network.

Discussion: We appreciate the commenters' concerns about the proposed impacts on the efficiencies of service delivery to clients, namely through the Regional Center and National Center, and concerns around our ability to maximize flexibility and responsiveness to emerging needs and prevent any diversion of funding from the Regional and National Centers. We believe, however, that the approach to coordination required of all Centers minimizes these concerns. As described above, all Centers are expected to coordinate services, and the National and Content Centers must consult with Regional Centers in providing services to clients. Priority 1 and Priority 3 further provide efficiencies to the CCNetwork, for example the National Center will support consistent communication, and dissemination of products, information, and resources from the CCNetwork and will facilitate collaboration across Centers, creating efficiencies for Regional and Content Centers. Additionally, Content Centers will provide subject matter expertise in areas of high national need identified by the Regional Advisory Committees that all Regional Centers can access and benefit from, allowing them to focus their resources on other areas of need. The Department acknowledges that the addition of Content Centers will result in the reduction of the total amount of program funds available to Regional Centers; however, we believe value of services aligned to areas of high national need, coupled with the efficiencies gained through the resources and support provided by the Content Centers and the National Center to the Regional Centers and their clients should lessen the impact of these reductions.

Changes: None.

Comments: Two commenters that expressed support for the inclusion of Content Centers also made recommendations for additional Centers: one expressed concern about not having a Center focused on systems change and sustainability, though also noted that this topic area could be addressed by the National Center; the other commenter recommended that the Department add a Center for Rural Schools and Communities.

Discussion: We agree with the two commenters on the importance of systems change and sustainability and on serving rural communities, but disagree with the recommendation to create additional Content Centers. The Content Center priorities were determined based on careful consideration of input from the Regional Advisory Committees on areas of national need, as well as other factors including whether the Department currently has existing technical assistance investments for an identified ESEA program or area of need. Additionally, the Department chooses to limit the number of Content Centers to prioritize use of program funds for the Regional Centers. The work of supporting systems change and sustainability is a core tenet of the Comprehensive Centers program and one that we believe is a part of the work of all Centers, and should be embedded in the approach to capacity-building services. Additionally, as the commenter noted, we believe the National Center is well-positioned to provide coordinating support across the CCNetwork to support broader systems change, and we believe that the current requirements in Priority 1 related to coordination are sufficient to carry out this work. We also appreciate and agree with the second commenter's feedback on the importance of serving rural communities but disagree that creating an additional Content Center is needed. Both Priorities 1 and 2 explicitly direct these types of Centers to address the unique educational obstacles faced by rural students, and Program Requirement 3 for Regional Centers further requires that Regional Centers, in developing the annual service plan, ensure services are provided to support students and communities with the highest needs, including recipients in rural areas. We believe that serving rural students is included in the core work of the National and all Regional Centers. For these reasons, we believe the existing priorities and the requirements combined will allow the Comprehensive Center program to fulfill this goal.

Changes: None.

Comment: One commenter expressed appreciation for the inclusion of early learning programs in Priority 3.

Discussion: We appreciate the commenter's support.

Changes: None.

Comment: Several commenters expressed support and made recommendations regarding the focus of the proposed Center on Strengthening and Supporting the Educator Workforce. Specifically, several commenters suggested including various specific educator roles within the focus of the Center; one commenter recommended the inclusion of school counselors, another recommended the inclusion of all educators responsible for instruction, including substitute teachers and other uncertificated teachers, and a third commenter recommended the inclusion of principals and other school leaders as well as educators involved in out-of-school time programs, such as 21st Century Community Learning Centers.

Discussion: The Department appreciates the comments related to the Center on Strengthening and Supporting the Educator Workforce and agrees with many of the suggestions provided. The Department did not provide a definition of the term “educator” in the NPP. We appreciate and agree with the feedback of the commenters suggesting that this Center should support educators beyond classroom teachers and clarify that the Department's intent is for the services of this Center to include many types of educators. In response to the feedback, the Department has added a definition of “educator” that includes principals or other school leaders, specialized instructional support personnel, (which includes school counselors, SLPs, and other related service providers), paraprofessionals, faculty, and others. We believe the definition includes substitute teachers, other uncertificated teachers, as well as those in out-of-school-time programs. With this change, the Department does not believe it is necessary to add more specific language to the priority as the definition clarifies that these educators are included in the focus of the Center.

Changes: The Department added a definition of “educator” to the Definitions section of this NFP.

Comment: Several commenters provided feedback on the scope and focus areas of the Center on Strengthening and Supporting the Educator Workforce. One commenter encouraged the Department to support building Grow Your Own Programs and registered apprenticeship programs that include audiologists and SLPs. Another commenter made several recommendations relating to support for Educator Preparation Programs (EPPs), including that the Center should support EPPs and their district partners, identifying specific potential partners, to design, launch, and continually improve pathways from recruitment through retention and build the capacity of EPPs and district leaders to facilitate programs grounded in more equitable outcomes for teachers and P-12 students. Another commenter recommended that the Center support preparation, integration, and ongoing development of substitute teachers.

Discussion: The Department strongly supports a focus for this Center on supporting high-quality EPPs. The primary clients for Comprehensive Centers are defined as SEAs, LEAs, REAs, TEAs and schools; most operators of EPPs would not be among the direct clients of Comprehensive Center program services. However, the Department does envision that the Center may support SEAs, LEAs, and their partners in addressing educator shortages, and that this collaboration with clients and their partners could include EPPs or other partners critical to the focus on strengthening and supporting the educator workforce. The Department believes this could include programs that focus on all types of educators, including audiologists and SLPs, based on demonstrated needs. Additionally, the Department appreciates the critical importance of substitute teachers in discussions of the educator workforce and agrees that the work of the Center to support State and local clients could include a focus on ensuring adequate pipelines of and support for substitute teachers, as appropriate to the needs of the client.

Changes: The Department is adding language to Priority 3 to clarify that the Center may work with SEAs, LEAs, and their partners, such as EPPs, regional workforce boards, labor unions, etc. in addressing educator shortages and providing all students with highly qualified educators across the P-12 continuum.

Comment: One commenter recommended that the Center on Strengthening and Supporting the Educator Workforce should provide tools and resources, professional development, and technical assistance that brings the science of learning into teaching practice, with an equity-centered focus on early literacy, mathematics, and the identification and use of high-quality instructional materials (HQIM). Additionally, this commenter indicated that the Center should work on strengthening and supporting the educator workforce in ways that also accelerate progress on national priorities such as literacy and math attainment, the use of HQIM, the diversification of the teacher pipeline, and support for multilingual learners.

Discussion: The Department notes the importance of assisting Center clients obtain resources and professional development that will enhance instructional techniques, and the identification and use of HQIMs; however, we note that supporting instruction generally falls within the Priority 1 focus on evidence-based programs, practices, and interventions that improve instruction and outcomes in core subjects, including math and literacy instruction, and decline the recommendation for inclusion in Priority 3. The Department believes that this Center may support diversifying teacher pipelines within the priority as written. Additionally, we note the Center on English Learners and Multilingualism will provide support related to meeting the needs of multilingual learners.

Changes: None.

Comment: One commenter noted recent data that show lower per pupil expenditures for students attending schools identified for improvement and recommended that the Department updated Priority 3 to ensure adequate and equitable school funding strategies for schools identified for support and improvement. The commenter recommended to add language to Priority 3 for the Center on Fiscal Equity to ensure that in prioritizing supports for students and communities with the greatest need, the Department include a focus on schools implementing comprehensive, targeted, and additional targeted support and improvement plans under section 1111(d) of the ESEA.

Discussion: The Department agrees with the commenter on the importance of ensuring adequate and equitable school funding strategies for schools identified for support and improvement. The Department accepts the recommendation to include specific language emphasizing schools implementing comprehensive support and improvement or targeted or additional targeted support and improvement activities under section 1111(d) of the ESEA in defining how the Center on Fiscal Equity should prioritize supports for students and communities with the greatest need.

Changes: The Department added language to Priority 3 for the Center on Fiscal Equity to include schools implementing comprehensive support and improvement or targeted or additional targeted support and improvement activities under section 1111(d) of the ESEA.

Comment: None.

Discussion: Although we did not receive related comments, in reviewing the final priorities, the Department identified a need to further clarify the focus of the Center on Early School Success to help ensure high-quality applications. The Department clarifies that the work of this Center should focus on supporting success in early elementary grades, which includes successful preschool to kindergarten transitions, success of students in early elementary grades in core subjects in order to meet challenging State academic standards, and engaging with parents and families in supporting student attendance in the early grades.

Changes: The Department has revised the priority for the Center on Early School Success to further clarify how it defines experiencing success in early learning and achievement.

Comment: None.

Discussion: In reviewing the final priorities, the Department identified a need to further clarify the focus of the English Learners and Multilingualism to help ensure high-quality applications. The Department clarifies that in meeting the needs of English Learners, the work of this Center should include support beginning with early language acquisition and development to ensure the needs of all students who are English Learners are met.

Changes: The Department has revised the priority for the The Center on English Learners and Multilingualism to further clarify how this Center might meet the needs of English Learners.

Program Requirements

Program Requirements for All Centers

Comments: One commenter requested that we clarify the discussion in the background of the Program Requirements section regarding the requirements on full-time equivalency for Directors, Co-Directors, and key personnel. The commenter asked whether having two co-directors with a .5 FTE each, totaling 1.0 FTE across both Co-Directors, would meet the program requirements.

Discussion: We appreciate the opportunity to clarify these requirements. Under Requirement 9 for the National Center, the Center must have a minimum of 1 FTE for the Director or two Co-Directors at a minimum of 0.75 FTE each. Under Program Requirement 8 for Regional Centers, each Center must have one Director at a minimum of 0.75 FTE or two Co-Directors of 0.5 FTE each. Additionally, we are adding an equivalent Program Requirement 7 for Content Centers to require one Director at a minimum of 0.75 FTE or two Co-Project Directors at a minimum of 0.5 FTE each. This new provision will help ensure that the FTE requirements align with the scope of work for the Content Centers and ensure sufficient leadership capacity for operation and effective coordination and collaboration of the Centers.

Changes: We have revised the Program Requirement for Content Centers to include the FTE requirement for Directors and Co-Directors.

Comments: One commenter provided broad feedback on the program requirements related to full-time equivalency of Directors or Co-Directors for the National and Regional Centers. The commenter recommended the requirements not prescribe specific FTE expectations for Center leadership given budget restrictions and the need for flexibility in the staffing model, particularly for smaller centers.

Discussion: We appreciate the feedback from the commenter related to the FTE requirements. However, we disagree with the recommendation to forgo designating specific FTE requirements. Based on our experience administering the Comprehensive Centers program, we believe that the FTE requirements currently outlined in Requirement 9 for the National Center and Requirement 8 for Regional Centers align with the scope of work for the Comprehensive Centers program and ensure sufficient leadership capacity for operation and effective coordination and collaboration of the Centers. We encourage Centers to maximize flexibility within these requirements to ensure Center leadership is staffed at a level sufficient for achieving the goals of its assigned projects and responsibilities.

Changes: None.

Comments: One commenter provided feedback on the discussion in the background of the Program Requirements section regarding the requirement that all personnel in key leadership and service delivery roles be staffed as close to full-time equivalency as practical. The commenter expressed concern with the focus on full-time equivalency, particularly for staff in service delivery roles, given the challenges that single-project staffing can raise for long-term staff stability and recommended removing a requirement for reaching close to full-time equivalency for staff in service delivery roles.

Discussion: We appreciate the interest in clarifying these requirements. Program Requirement 9 for the National Center, Program Requirement 8 for Regional Centers, and Program Requirement 7 for Content Centers only discuss full-time equivalency minimums for Directors and Co-Directors and do not establish specific requirements for other staff in service delivery roles. The requirements do state that key personnel must be able to provide services at the intensity, duration, and modality appropriate to achieving agreed-upon milestones, outputs, and outcomes described in annual service plans. Additionally, Program Requirement 5 for all Centers requires Centers to ensure that personnel are staffed at a level sufficient for achieving the goals of assigned projects and responsibilities. Although we do not specify a required staffing level for general project personnel, to help ensure that applicants have carefully considered the staffing level needed for the success of their proposed project, we are revising the relevant selection criterion under Quality of Project Design so that applicants have the opportunity to describe, and the Department has the opportunity to assess, their approach to addressing these requirements.

Changes: We have revised the selection criterion under Quality of Project Design for the personnel management system to include the extent to which the project is staffed at a level sufficient for achieving the goals of its proposed projects and responsibilities.

Comments: One commenter expressed the importance of considering how physical resources are distributed among students and how access to digital resources may be an effective means of providing enriching materials to underserved students through the Comprehensive Centers Program.

Discussion: We appreciate the commenter's recommendation to ensure services focus on promoting student access to educational resources. Under Program Requirement 3 for the Regional Centers, Centers must ensure services are provided to support students and communities with the highest needs. Needs are determined through consulting with a broad range of stakeholders, outlined in Program Requirement 2 for Regional Centers. We believe these requirements permit Centers to focus services on promoting access to educational resources for students with the highest needs within their regions, as determined by and with the communities they serve. In addition, Priority 1 emphasizes the implementation and scaling up of evidence-based programs, practices, and interventions that address other emerging education topics of national importance that are not being met by another federally funded provider (e.g., evidence-based practices in the use of education technology), thus providing support across Regions for services that may address such needs identified by multiple States across regions.

Changes: None.

Comments: One commenter requested information related to the program performance measures referenced in the proposed Program Requirements for all Centers.

Discussion: We appreciate the comment requesting information about the program performance measures. The final program performance measures were established in the 2019 NFP. The final performance measures will additionally be included in the NIA.

Changes: None.

Comments: One commenter requested that the Department strengthen the requirements and selection criteria for the Comprehensive Centers program by specifying an evaluation requirement for each Center in line with 34 CFR 75.210 General selection criteria, as well as participation in a national evaluation. The commenter shared that a clear evaluation requirement would provide distinction among similar terms related to the required performance management systems and processes as written in the Program Requirements for all Centers and the Selection Criteria under Quality of Project Design.

Discussion: We appreciate the commenter's recommendation and request for clarification of the proposed program and application requirements related to performance management and evaluation. The Department believes that proposed program requirements are aligned to 34 CFR 75.210 as evidenced by the requirement for Centers to develop and implement an effective performance management system that integrates continuous improvement and summative evaluation methods to monitor progress towards agreed upon outcomes, outputs, and milestones to measure the reach, use, and impact of the services being delivered. This integrated approach will help ensure capacity-building services are implemented as intended and desired results are achieved. The performance management system must also include strategies to report on defined program performance measures. Additionally, as the commenter notes, Centers are required to participate in a national evaluation of the Comprehensive Centers Program as described in section 204 of the ETAA. To clarify the intent that Centers integrate best practices in continuous improvement to manage and evaluate project performance to provide performance feedback and permit periodic assessment of progress toward achieving intended outcomes, we have added language to explicitly include evaluation in the proposed performance management system as defined.

Changes: We have revised the program requirement and application requirements for all Centers and aligned selection criteria language, under Quality of Project Design, to reference evaluation as part of a performance management and evaluation system.

Requirements for National Comprehensive Center

Comments: Two commenters provided feedback on Program Requirement 9 for the National Center related to the requirement that the National Center is staffed with one Director at a minimum 1.0 FTE or two Co-Directors at .75 FTE. One commenter recommended decreasing the FTE requirements for the National Center to a minimum .75 Director or 1.0 FTE split across two Co-Directors, in alignment to the requirement for Regional Centers. The other commenter agreed that the FTE requirements should be higher for the National Center leadership and recommended that the FTE requirements be increased to a minimum of 1.5 FTE total for Center leadership but that this could be achieved through various leadership roles such as Director and Co-Director, two Co-Directors, or a Director and a Deputy Director.

Discussion: We appreciate the feedback from the commenters related to the FTE requirements for the National Center. However, we disagree with the recommendations to revise the FTE requirements. Based on our experience administering the Comprehensive Center program, we believe that the FTE requirements currently outlined in Requirement 9 for the National Center align with the significant scope of work assigned to the National Comprehensive Center and that a reduction as recommended by the first commenter would not provide sufficient leadership capacity for effective coordination and collaboration of the CCNetwork. Related to the comment on increasing the minimum FTE to 1.5 to be shared across leadership roles, we appreciate the emphasis on ensuring adequate leadership capacity for the National Center, especially considering its multifaceted responsibilities, and agree with the spirit of the recommendation. However, we believe that the requirement as written already provides applicants the flexibility to propose a 1.5 FTE across two Co-Directors if desired, or the option of one full-time Director and a Deputy Director at less than .75 FTE. We believe that providing this flexibility will allow applicants to design a staffing model aligned to their budget while still ensuring sufficient leadership capacity commensurate with the complexity of the work scope of the National Center.

Changes: None.

Comment: One commenter noted support for the role of the National Center to coordinate and support the Regional Comprehensive Centers. The commenter recommended requiring the National Center to set aside a percentage of annual funding to support dissemination of Regional Center strategies, tools, and resources.

Discussion: The Department appreciates the commenter's support for the important function of the National Center to support Regional Centers, as well as its responsibility to disseminate information and resources from all Centers within the CCNetwork. Accordingly, Program Requirements 5, 6, 7, and 8 for the National Center require the National Center to implement such support and dissemination activities, and Program Requirement 10 for the National Center requires it to reserve a portion of its budget to address these requirements.

Changes: None.

Comment: One commenter asked how the Department defines “fidelity measures” in the annual service plan as referenced in Program Requirement 1 for all Centers.

Discussion: We appreciate the commenter's request to clarify how the Department defines the term fidelity measures referenced in Program Requirement 1. The Comprehensive Centers program has established performance measures for the purposes of reporting under 34 CFR 75.110. Measure 3 evaluates the extent to which Comprehensive Centers demonstrate that capacity-building services were implemented as intended, which serves as a fidelity measure. This term is derived from implementation science and should help Centers understand whether services implemented as designed produce the desired capacity-building outcomes. While the Department will provide guidelines to grantees on reporting performance measures, we believe applicants are best positioned to propose their own measures of implementation fidelity, for example, in responding to Application Requirement 5 to present a logic model for the project.

Changes: None.

Requirements for Regional Centers

Comments: Four commenters provided feedback on Program Requirement 8 for Regional Centers. Under this requirement, the grantee must be located in the region the Center serves and the Director(s) and key personnel must be able to provide on-site services. Two commenters expressed support for requiring locally based staff, with one commenter recommending that the Director or Co-Directors be located in the region the Center serves, and another noting the importance of local personnel to ensure the needs of underserved students are met by the program. Two other commenters did not support the location requirements, noting the evolution of and ability to maximize remote work. One of these commenters noted that they did not think it was important for a Director to be physically located in the region; the other recommended that the requirement that grantees be located in the region the Center serves be eliminated.

Discussion: We appreciate the support and feedback from the commenters regarding the requirement that Regional Centers be located in the region they serve. We also appreciate the commenters raising the flexibilities enabled through virtual and remote work and agree that Regional Centers may benefit from employing personnel outside of a specific geographic region. Based on the Department's experience administering the program, we believe it is important for each Regional Center to establish a presence in the region served, which includes having a physical presence in the region and ensuring staff are able to provide on-site services to recipients and clients. This approach supports Regional Center leadership and teams to have experiential awareness and context of the regions they serve and minimizes, to the extent practicable, costs and resources related to travel to support clients geographically distant from their locations when serving States in a region. Having personnel available to provide on-site services in the region is instrumental in building connections, understanding local contexts, and ensuring that the Center's efforts are responsive and aligned to the needs of the region served. However, we note that Requirement 8 does not require that all Center staff are physically based in the geographic region. We believe that the requirement as written provides Centers with appropriate flexibility regarding geographic residency of staff while still ensuring adequate presence within the region served to support regional service delivery. As such, we decline to make changes in response to these comments.

Changes: None.

Comments: One commenter requested clarification on language in the background of the Program Requirements section discussing requirements for Regional Centers to share information and disseminate effective practices outside their respective regions.

Discussion: We appreciate the interest in clarifying requirements of Regional Centers to share information outside their regions. We note that we do not include a background section in the NFP. Therefore, we are not making any changes in response to these comments. However, we wish to clarify that we believe the Centers will benefit by learning from each other and that program requirements established in this document for the National Center to develop, and for all Centers to participate in, peer learning opportunities will meet this aim.

Changes: None.

Comment: One commenter requested further clarification on how cross-region efforts would be carried out.

Discussion: We appreciate the comment and need for clarification. We note several elements of Priority 1 that establish responsibility with the National Center to implement effective strategies for coordinating with the Regional Centers and Content Centers to assess educational needs; coordinate common areas of support across Centers; share and disseminate information about CCNetwork services, tools, and resources to maximize the reach of the CCNetwork across clients and education stakeholders, among other responsibilities. Program Requirements for the National Center further describe the National Center's responsibilities, including to design and implement communications and dissemination vehicles for the CCNetwork, develop peer learning opportunities for Center staff, and to collect and share information about services provided through the CCNetwork for the purpose of coordination, collaboration, and communication across Centers and other providers. Additionally, the National Center must design and implement robust needs-sensing activities and processes to consult with and integrate feedback from the Department, Regional and Content Centers, to explore areas of national need that may be addressed through targeted and universal capacity-building services in its own service plan, or to inform the work of other Centers. Additionally, requirements for the Regional and Content Centers support their dedication of resources to collaboration and coordination with the National Center and their participation in peer learning opportunities to support cross-regional continuous improvement and evidence building within the CCNetwork. We believe the priorities and requirements provide sufficient guidance on the Department's expectations regarding cross-regional collaboration and the responsibilities of each Center within the CCNetwork to support and participate in those efforts to achieve the stated goals of the program. The Cooperative Agreement will further outline specific requirements for grantees regarding cross-regional collaboration.

Changes: None.

Comment: One commenter suggested that due to the reorganization of some State agencies, there may be more than one center of education leadership in States, resulting in the need to identify additional members of State leadership to consult on Center needs-sensing activities.

Discussion: We appreciate the commenter's feedback regarding the variety of educational leadership models across States. We believe the program requirements as written support flexible engagement with multiple State leadership models. Program Requirement 2 for Regional Centers requires Centers to consult with a broad range of stakeholders, including chief State school officers (CSSOs) and other SEA leaders, and integrate their feedback in developing the annual service plan. We also note that Program Requirement 4 for all Centers requires Centers to develop and implement a stakeholder engagement system to regularly communicate, engage, and coordinate across organizational levels (Federal, State, and local) and facilitate regular engagement of stakeholders involved in or affected by proposed services, which would include education leaders in each State. Finally, we note that the ETAA requires Centers to have an advisory board that is composed of the CSSOs, or such officers' designees or other State officials, in each State served by the Center who have primary responsibility under State law for elementary and secondary education in the State, and that in the case of a State in which the chief executive officer has the primary responsibility under State law for elementary and secondary education in the State, the chief executive officer shall consult, to the extent permitted by State law, with the SEA in selecting additional members of the board. We believe these provisions provide adequate flexibility for Comprehensive Centers to consult with and include State education leaders in determining the needs and priorities for each Regional Center.

Changes: None.

Application Requirements

Application Requirements for All Centers

Comments: Two commenters discussed the overall number of and breadth of the requirements, priorities, definitions, and selection criteria. Both commenters suggested that the Department provide applicants with guidance on how to organize their applications.

Discussion: We appreciate the commenters' feedback. The Department will provide pre-application technical assistance to applicants that includes suggestions for organizing applications and overviews how selection criteria will be used to evaluate responses to the program priorities and application requirements. Additionally, the Department notes several changes to the selection criteria, described in the next section, to more clearly align them to specific priority elements and requirements. For example, the Department is revising the application requirements regarding the applicant's approach to capacity-building to more clearly align the requirement to the relevant priorities and selection criteria by clarifying how applicants may organize their application narratives in response to these criteria.

Changes: We have revised the application requirements and selection criteria to more clearly align with each other, the priorities, and the program requirements.

Comment: One commenter requested that the Department establish a firm page limit for the application narrative and provide the level of detail expected in five-year plans and other elements of the application.

Discussion: We appreciate the commenter's feedback regarding the establishment of a page limit and detailed guidelines for the proposed application narrative. The Department agrees that it is important to assist applicants in understanding expectations for detail in and length of its proposal. It is not the Department's practice to establish page limits for discretionary grant applications, however a recommended page limit will be provided in the NIA to assist applicants in their response. Pre-application technical assistance will be provided to review the requirements and provide guidance to applicants. For applicant resources for Department grants generally, please visit: https://www2.ed.gov/fund/grant/about/training-management.html.

Changes: None.

Comments: One commenter requested clarification on Application Requirement 5 for all Centers, which requires applicants to present a logic model explaining how the project is likely to improve or achieve relevant and expected outcomes. The commenter requested clarification on the scope of the logic model and whether it should be focused broadly on the Comprehensive Center program or if applicants should provide a logic model for each project within their specific proposal.

Discussion: We clarify that Application Requirement 5 requires each applicant to provide one logic model relevant to their proposed project as a part of their application for funding to demonstrate their approach to responding to the relevant priority of the Comprehensive Centers program. The application requirement does not include a separate logic model for each activity within the project proposal.

Changes: None.

Comments: Two commenters expressed concern that potential applicants could use data from the current national evaluation of the Comprehensive Centers program to their advantage in the upcoming competition.

Discussion: The Institute of Education Science is overseeing the current national evaluation of the Comprehensive Centers, which will be completed later in 2024. The data from this evaluation were primarily self-reported perceptions of how the work was organized and the challenges faced during what was a very unusual period, 2020-2022, with the objective of providing systemwide insights for program improvement. Even though data were collected from and about each Center, none of these data present a conflict of interest or could give an applicant an advantage in the new competition. Furthermore, all contractors conducting work for IES are legally bound to uphold federal privacy and confidentiality laws and requirements.

Changes: None.

Application Requirements for Regional Centers

Comment: One commenter requested clarification on whether applicants for Regional Centers were required to submit five-year service plans or 1-year service plans and whether a plan must be submitted for each State within a region.

Discussion: We appreciate the commenter's request to clarify how annual service plans should be included in applications to this program. Applicants should detail an approach to capacity building for the five-year project period that includes a description of the applicant's approach to addressing the priority to which they are applying, as indicated in the application requirements, including, for example, the educational challenges proposed to be addressed, the scope of services proposed by the project, potential partners, and the specific State and local outcomes that would represent significant achievement toward the program's desired outcomes. In the case of applicants for Regional Centers, the approach should also include the proposed approach to intensive capacity-building services, including identification of intended recipients, as specified in the Application Requirements for Regional Centers. These aspects of the applicant's proposed approach will be reviewed and scored under the selection criteria for the Approach to Capacity Building. The Department notes that annual service plans referenced under the Program Requirements for all Centers will be established post-award, and details and requirements for such service plans will be further detailed in Cooperative Agreements with grantees.

Changes: We have revised the Application Requirements 1 and 2 for all Centers to clarify that a proposal should detail the applicant's approach to capacity building under the priority for which they are applying.

Definitions

Comment: One commenter expressed general support for the proposed definition for the term capacity building and in particular the four proposed dimensions of capacity building: human, organizational, policy, and resource capacity building. The commenter elaborated with specific examples of the importance of human and organizational capacity building, particularly in their work in rural communities.

Discussion: The Department appreciates the support for the definition of capacity building as well as the commenter's discussion of their experience related to this work in rural communities.

Changes: None.

Comments: One commenter raised questions and concerns regarding the definitions of the terms client and recipient. The commenter expressed concern that under these definitions, organizations that may potentially qualify as clients or recipients would expand the scope of work of the Comprehensive Centers beyond that described in the ETAA. The commenter specifically questioned whether, based on these definitions, Centers could work with public and/or private colleges and universities as clients or recipients.

Discussion: The Department appreciates the commenter's concern and recommendations to clarify the types of organizations that may be clients or recipients of services under the Comprehensive Center program. We emphasize that the ETAA authorizes Centers to provide services to SEAs, LEAs, REAs, and schools in the region where such center is located, and that the Department has clarified in prior competitions that it considers REAs to include TEAs, as is further clarified in the proposed definitions. The Department further clarifies that private or public colleges and universities, to the extent that they are not eligible to enter into agreement for negotiated capacity-building services, would not be direct clients of capacity-building services provided by the Centers, though they may be recipients of services if, for example, they are included as partners of the primary clients being served (e.g., a university partnering with an SEA, LEA, or other client on establishing educator preparation pathways to address identified needs related to educator shortages) or if they choose to participate in universal technical assistance that is open to broader public participation.

Changes: None.

Comment: One commenter requested clarification of how the Department defines the term performance management and suggested narrowing of the term as it appears to be used inconsistently in the NPP.

Discussion: We appreciate the commenter's request for clarification of the term performance management. We consider performance management to include activities that provide performance feedback and permit periodic assessment of progress toward achieving intended outcomes to contiuously improve the quality and efficacy of service delivery. We have aligned Program Requirement 3 for all Centers requiring a performance management and evaluation system with Application Requirement 7 and the aligned selection criteria under Quality of Project Design to clarify our intent and allow applicants to describe how they would establish and implement a performance and evaluation system. As evidenced in the proposed program requirement, we believe that effective performance management and evaluation integrates ongoing, continuous improvement and summative evaluation methods to monitor progress towards agreed upon outcomes, outputs, and milestones to measure the reach, use, and impact of the services being delivered.

Changes: We have revised Program Requirement 3 for all Centers, Application Requirement 7, and aligned selection criteria under Quality of Project Design to describe the performance management and evaluation system.

Comments: One commenter expressed general support for the Department's definition of the term outcomes particularly to include short-term, medium-term, and long-term outcomes.

Discussion: We appreciate the commenter's support for and feedback on the definition of the term outcomes.

Changes: None.

Selection Criteria

Comment: One commenter asked for point values assigned to the selection criteria.

Discussion: We appreciate the commenter's feedback and note that we will assign specific point values for selection criteria in the NIA. Additionally, we will provide pre-application technical assistance that addresses the selection criteria, and their point values, by which proposals will be evaluated.

Changes: None.

Comment: A few commenters provided feedback on the overall breadth and complexity of the selection criteria. One commenter recommended the Department streamline the selection criteria to focus on the most critical priorities. Another commenter noted the complexity of the criteria and potential confusion regarding which criteria apply to each priority (National, Regional, or Content Centers). One commenter shared concern about the overall complexity of priorities and requirements, and made recommendations for areas to clarify, including streamlining selection criteria to focus on the most critical priorities and requirements, providing more clear organization to the criteria, and offering a clear template to guide applicants' response in their applications.

Discussion: In response to the commenters' feedback, we are revising the selection criteria to more clearly align them with the priorities and requirements. Specifically, the Department revises the criterion on Approach to Capacity Building for all Centers and specifically for the National, Regional, and Content Centers, to align the criterion with individual elements of each priority. Additionally, the Department is revising the Quality of Project Design criterion for the National Center to focus on the requirements related to coordinating and overseeing the work of the CCNetwork. Further, the Department will clearly indicate in the NIA which selection criteria apply to applications for a Regional, Content, or National Center and assigns point values to each criterion. Additionally, we will offer pre-application technical assistance that includes guidance on how applicants can organize their applications to align with the selection criteria.

Changes: We have revised the selection criteria for Approach to Capacity Building and Quality of Project Design to more clearly align them with the priorities and requirements.

Comment: One commenter requested clarification on how the selection criteria would apply to annual service plans required under the Program Requirements for all Centers.

Discussion: We appreciate the commenter's request for clarification on how selection criteria will be applied to annual service plans and agree that language under the program requirements, application requirements, and selection criteria should be clarified as it relates to how annual plans should be included in applications to this program. We clarify above that applicants to this program should detail an approach to capacity building for the five-year project period as indicated in the application requirements. The applicant's proposed approach will be reviewed and scored under the selection criteria for the Approach to Capacity Building. Additionally, we will provide pre-application technical assistance that explains how the selection criteria align to the priorities and requirements.

Changes: We revised the selection criteria under the Approach to Capacity Building to further clarify how they will be used to evaluate the extent to which applicants meet certain aspects of the priority for each Center through their proposed approach to capacity building detailed in their application.

Comment: One commenter requested clarification on how the term capacity-building plan referenced in the selection criteria for Regional Centers and the National Center aligned to other terms and requirements in the NPP, specifically noting references elsewhere in the selection criteria to “technical assistance plans” and whether these terms are interchangeable.

Discussion: We appreciate the commenter raising the question regarding how the term capacity-building plan is used in the NPP in relation to other similar terms and agree that clarification is needed. To simplify the language, and more clearly link the program and application requirements to the selection criteria, we have replaced references to capacity-building and technical assistance plans with reference to the applicant's approach to capacity building.

Changes: We have revised the Approach to Capacity Building selection criteria for the National Center, Regional Centers, and Content Centers to streamline the language.

Comments: One commenter requested clarification between subject matter, content, and technical expertise.

Discussion: We appreciate the commenter's request for clarification. In the selection criteria under Subject Matter and Technical Assistance Expertise, the Department differentiates subject matter expertise and technical assistance expertise as aligned to the relevant Application Requirements for all Centers. The Subject Matter and Technical Assistance Expertise selection criteria acknowledge the importance of these two areas of expertise, and we agree that the criteria should further clarify the distinction between the two types of expertise. As defined in this document, “subject matter expertise” may include expert knowledge of statutory requirements, regulations, and policies related to ESEA programs, current education issues, and policy initiatives, as well as demonstrated experience in content areas for which an individual is engaged as an expert including, for example, publishing in peer-reviewed journals, presenting at conferences, and relevant experience in operating and administering ESEA programs in State and local educational systems. Expertise in providing technical assistance may include expertise in the current research on adult learning principles, coaching, and implementation science.

Changes: We have revised the selection criteria under Subject Matter and Technical Assistance Expertise to clarify the alignment of these terms to the application requirements.

Final Priorities

Priority 1—National Comprehensive Center.

Projects that propose to establish a National Center to (1) provide high-quality, high-impact technical assistance and capacity-building services to the Nation that are designed to improve educational opportunities, educator practice, and student outcomes and (2) coordinate the work of the CCNetwork to effectively use program resources to support evidence use and the implementation of evidence-based (as defined in 34 CFR 77.1) practices to close opportunity gaps and improve educational outcomes, particularly accelerating academic achievement in math and literacy for all students, and particularly for groups of students with the greatest need, including students from low-income families and students attending schools implementing comprehensive support and improvement or targeted or additional targeted support and improvement activities under section 1111(d) of the ESEA, in a manner that reaches and supports as many SEAs, REAs, TEAs, LEAs, and schools in need of services as possible.

The National Center must design and implement an effective approach to providing high-quality, useful, and relevant universal, targeted, and, as appropriate and in partnership with Regional Centers, intensive capacity-building services that are likely to achieve desired recipient outcomes. The approach must be driven by adult learning principles and incorporate implementation, improvement, and systems change frameworks, and must promote alignment across interconnected areas of need, programs, and agency systems.

The National Center must implement effective strategies for coordinating and collaborating with the Regional Centers and Content Centers to assess educational needs; coordinate common areas of support across Centers; communicate about the work of the CCNetwork, including sharing and disseminating information about CCNetwork services, tools, and resources to maximize the reach of the CCNetwork across clients and education stakeholders; coordinate with other federally funded providers regarding the work of the CCNetwork and help clients navigate available support; and support the selection, implementation, scale-up, and dissemination of evidence-based practices that will improve educational opportunities and outcomes, particularly academic achievement in math and literacy, and close achievement gaps for all students, particularly for groups of students with the greatest need, including students from low-income families and students attending schools implementing comprehensive support and improvement or targeted or additional targeted support and improvement activities under section 1111(d) of the ESEA.

Services must address: common high-leverage problems identified in Regional Center service plans (as outlined in the Program Requirements for the National Center); findings from finalized Department monitoring reports or audit findings; implementation challenges faced by States and LEAs related to teaching, learning, and development; needs of schools designated for improvement; needs related to closing opportunity and achievement gaps; needs to improve core academic instruction; and emerging education topics of national importance.

The National Center must provide universal and targeted capacity-building services that demonstrably assist SEAs, REAs, TEAs, LEAs, and Regional Center clients and recipients to—

(1) Implement approved ESEA Consolidated State Plans, with preference given to implementing and scaling evidence-based programs, practices, and interventions that directly benefit entities that have high percentages or numbers of students from low-income families as referenced in title I, part A of the ESEA (ESEA sec. 1113(a)(5));

(2) Implement and scale up evidence-based programs, practices, and interventions that lead to the increased capacity of SEAs and LEAs to address the unique educational challenges and improve outcomes of schools implementing comprehensive support and improvement activities or targeted or additional targeted support and improvement activities as referenced in title I, part A of the ESEA (ESEA sec. 1111(d)) and their students;

(3) Implement State accountability and assessment systems consistent with title I, part A of the ESEA (ESEA section 1111(b)-(d)), including the requirement for States to conduct resource allocation reviews under ESEA section 1111(d)(3)(A)(ii);

(4) Implement and scale up evidence-based programs, practices, and interventions that improve instruction and outcomes in core academic subjects, including math and literacy instruction;

(5) Address the unique educational obstacles faced by rural and Tribal students; and

(6) Implement and scale up evidence-based programs, practices, and interventions that address other emerging education topics of national importance that are not being met by another federally funded technical assistance provider (e.g., best practices in the use of education technology, student support strategies promoting digital literacy and access, etc.).

An applicant under this priority must demonstrate how it will cultivate a network of national subject matter experts from a diverse set of perspectives or organizations to provide capacity-building support to Regional Centers and clients regarding the ESEA topical areas listed above and other emerging education issues of national importance.

Priority 2—Regional Centers.

Projects that propose to establish Regional Centers to provide high-quality, useful, and relevant intensive capacity-building services to State and local clients and recipients to assist them in selecting, implementing, and sustaining evidence-based programs, practices, and interventions that will result in improved educator practice and student outcomes, especially in math and literacy. The approach must be driven by adult learning principles and incorporate implementation, improvement, and systems change frameworks.

Each Regional Center must provide high-quality, useful, and relevant capacity-building services that demonstrably assist clients and recipients in—

(1) Carrying out Consolidated State Plans approved under the ESEA, with preference given to the implementation and scaling up of evidence-based programs, practices, and interventions that directly benefit recipients that have high percentages or numbers of students from low-income families as referenced in title I, part A of the ESEA (ESEA sec. 1113(a)(5)) and recipients that are implementing comprehensive support and improvement activities or targeted or additional targeted support and improvement activities as referenced in title I, part A of the ESEA (ESEA sec. 1111(d)), including the requirement for States to conduct resource allocation reviews required under ESEA section 1111(d)(3)(A)(ii);

(2) Implementing, scaling up, and sustaining evidence-based programs, practices, or interventions that focus on key initiatives that lead to LEAs and schools improving student outcomes. Key initiatives may include implementing evidence-based practices to help accelerate academic achievement in math and literacy (including high-impact tutoring, high-quality summer and after-school learning and enrichment, and effective interventions to reduce chronic absenteeism and increase student engagement), improving core academic instruction, implementing innovative and promising approaches to systems of high-quality assessment (including diagnostic, formative and interim assessments to inform instructional design), addressing educator shortages (including recruitment, preparation, and retention), or developing aligned and integrated agency systems;

(3) Addressing the unique educational obstacles faced by underserved populations, including students from low-income families, students of color, students living in rural areas, Tribal students, English learners, students in foster care, migratory children, immigrant children and youth, and other student populations with specific needs defined in the ESEA, which may include neglected, delinquent, and at-risk children and youth, and homeless children and youths; and

(4) Improving implementation of ESEA programs including collecting and reporting program data and addressing corrective actions or results from audit findings and ESEA program monitoring, conducted by the Department, that are programmatic in nature, at the request of the client.

Regional Centers must effectively work with the National Center and Content Centers, as needed, to assist clients in selecting, implementing, and sustaining evidence-based programs, policies, practices, and interventions; and must develop cost-effective strategies to make their services available to as many SEAs, REAs, TEAs, LEAs, and schools within the region in need of support as possible.

Applicants must propose to operate a Regional Center in one of the following regions:

Region 1 (Northeast): Connecticut, Massachusetts, Maine, New Hampshire, New York, Rhode Island, Vermont

Region 2 (Islands): Puerto Rico, Virgin Islands

Region 3 (Mid-Atlantic): Delaware, District of Columbia, Maryland, New Jersey, Pennsylvania

Region 4 (Appalachia): Kentucky, Tennessee, Virginia, West Virginia

Region 5 (Southeast): Georgia, North Carolina, South Carolina

Region 6 (Gulf): Alabama, Florida, Mississippi

Region 7 (Midwest): Indiana, Michigan, Ohio, Illinois, Iowa, Minnesota, Wisconsin

Region 8 (Central): Colorado, Kansas, Missouri, Nebraska, North Dakota, South Dakota, Wyoming

Region 9 (Southwest): Arkansas, Louisiana, New Mexico, Oklahoma, Texas

Region 10 (West): Arizona, California, Nevada, Utah

Region 11 (Northwest): Alaska, Oregon, Washington, Idaho, Montana

Region 12 (Pacific 1): American Samoa, Hawaii, Republic of the Marshall Islands

Region 13 (Pacific 2): Commonwealth of the Northern Mariana Islands, Federated States of Micronesia, Guam, Palau

Region 14: Bureau of Indian Education

Priority 3—Content Centers.

Projects that propose to establish Content Centers to provide high-quality, useful, and relevant targeted and universal capacity-building services in a designated content area of expertise to SEA, REA, TEA, and LEA clients designed to improve educational opportunities, educator practice, and student outcomes.

Content Centers must be designed to build the capacity of practitioners, education system leaders, public schools serving preschool through 12th grades (P-12) (which may include Head Start and community-based preschool), LEAs, and SEAs to use evidence in the designated content area. Capacity-building services may include, for example, developing evidence-based products and tools, and providing services that directly inform the use of evidence in a State or local policy or program or improved program implementation to achieve desired educational outcomes. The approach must be driven by adult learning principles and incorporate implementation, improvement, and systems change frameworks. Services must promote the use of the latest evidence, including research and data; be effectively delivered using best practices in technical assistance and training; and demonstrate a rationale for how they will result in improved recipient outcomes.

Content Centers must support Regional Centers, as needed, with subject matter expertise to enhance the intensive capacity-building services provided by the Regional Centers or to design universal or targeted capacity-building services to meet identified SEA, REA, TEA, or LEA needs.

Content Centers must effectively coordinate and align targeted and universal capacity-building services with the National Center, Regional Centers, and other federally funded providers, as appropriate, to address high-leverage problems and provide access to urgently needed services to build Centers' capacity to support SEAs and local clients. Content Centers must effectively coordinate with the National Center, Regional Centers, and other federally funded providers to assess potential client needs, avoid duplication of services, and widely disseminate products or tools to practitioners, education system leaders, and policymakers in formats that are high quality, easily accessible, understandable, and actionable to ensure the use of services by as many SEA, REA, TEA, and LEA recipients as possible.

Applicants must propose to operate a Content Center in one of the following areas:

(1) English Learners and Multilingualism: The Center on English Learners and Multilingualism must provide universal, targeted, and, as appropriate and in partnership with Regional Centers, intensive capacity-building services designed to support SEAs and LEAs to meet the needs of English learners beginning with early language acquisition and development, meet the needs of English learners with disabilities, and increase access to high-quality language programs so that they, along with all students, have the opportunity to become multilingual. The Center must also support the selection, implementation, and scale-up of evidence-based practices, in coordination with the National Clearinghouse for English Language Acquisition, related to meeting the needs of English learners.

(2) Early School Success: The Center for Early School Success must provide universal, targeted, and, as appropriate, and in partnership with Regional Centers, intensive capacity-building services designed to support SEAs and LEAs to implement comprehensive and aligned preschool to third-grade (PK-3) early learning systems in order to increase the number of children who experience success in early learning and achievement, including by increasing the number of children who meet challenging State academic standards; supporting effective transitions to kindergarten; partnerships with parents and families on everyday school attendance; and developmentally informed and evidence-based instructional practices in social and emotional development, early literacy, and math. The Center must support the selection, implementation, and scale-up of programs, policies, and practices, informed by research on child development, that can strengthen the quality of PK-3 learning experiences and support social, emotional, cognitive, and physical development.

(3) Fiscal Equity: The Center on Fiscal Equity must provide universal, targeted, and, as appropriate, and in partnership with Regional Centers, intensive capacity-building services designed to support SEAs and LEAs in strengthening equitable and adequate resource allocation strategies, including the allocation of State and local resources; improving the quality and transparency of fiscal data at the school level; and prioritizing supports for students and communities with the greatest need, including schools implementing comprehensive support and improvement or targeted or additional targeted support and improvement activities under section 1111(d) of the ESEA in collaboration with the National Center. The Center must support the selection, implementation, and scale-up of evidence-based programs, policies, and practices that promote responsible fiscal planning and management, and effective and permissible uses of ESEA formula funds, including through combining those funds with other available and allowable Federal, State, and local funds (“blending and braiding”) and considering how ESEA funds may interact with and complement other Federal programs, such as IDEA, Medicaid, and Head Start to improve student opportunities and outcomes.

(4) Strengthening and Supporting the Educator Workforce: The Center on Strengthening and Supporting the Educator Workforce must provide universal, targeted, and, as appropriate and in partnership with Regional Centers, intensive capacity-building services designed to support SEAs to support their LEAs, schools, and their partners (e.g., educator preparation programs, workforce boards, labor unions) in designing and scaling practices that establish and enhance high-quality, comprehensive, evidence-based, and affordable educator pathways, including educator residency and Grow Your Own programs, as well as emerging pathways into the profession such as registered apprenticeship programs for teachers; and in improving educator diversity, recruitment, and retention. The Center must support the selection, implementation, and scale-up of evidence-based programs, policies, and practices that will support States, LEAs, and their partners in addressing educator shortages and providing all students with highly qualified educators across the P-12 continuum, including through increased compensation and improved working conditions; high-quality, comprehensive, evidence-based, and affordable educator preparation, including educator residency and Grow Your Own programs, as well as emerging pathways into the profession such as registered apprenticeship programs for teachers; providing opportunities for teacher leadership and career advancement; ongoing professional learning throughout educators' careers, including implementing evidence-based strategies for effective teaching and learning; strengthening novice teacher induction; and supporting and diversifying the educator workforce, as well as other actions to improve learning conditions and educator well-being.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

Program Requirements:

The Department establishes the following program requirements for this program. We may apply one or more of these requirements in any year in which this program is in effect.

Program Requirements for All Centers: National, Regional, and Content Center grantees under this program must:

(1) Develop service plans annually for carrying out the technical assistance and capacity-building activities to be delivered by the Center in response to educational challenges facing students, practitioners, and education system leaders. Plans must include: High-leverage problems to be addressed, including identified client needs, capacity-building services to be delivered, time-based outcomes (i.e., short-term, mid-term, long-term), responsible personnel, key technical assistance partners, milestones, outputs, dissemination plans, fidelity measures, if appropriate, and any other elements specified by the Department. The annual service plans must be an update to the Center's five-year plan submitted as part of the initial grant application and account for changes in client needs.

(2) Develop and implement capacity-building services, including tools and resources, in partnership with State and local clients and recipients to reflect and address specific client needs and contexts and promote sustainable evidence utilization to address identified educational challenges.

(3) Develop and implement an effective performance management and evaluation system that integrates continuous improvement to promote effective achievement of client outcomes. The system must include methods to measure and monitor progress towards agreed upon outcomes, outputs, and milestones and to measure the reach, use, and impact of the services being delivered to ensure capacity-building services are implemented as intended, reaching intended clients and recipients, and achieving desired results. Progress monitoring must include periodic assessment of client satisfaction and timely identification of changes in State contexts that may impact the project's success. The performance management system must include strategies to report on defined program performance measures.

(4) Develop and implement a stakeholder engagement system to regularly communicate, engage, and coordinate, using feedback to inform improvement, across organizational levels (Federal, State, and local), and facilitate regular engagement of stakeholders involved in or affected by proposed services. This system must provide regular and ongoing opportunities for outreach activities (e.g., ongoing promotion of services and products to potential and current recipients, particularly at the local level) and regular opportunities for engagement with potential beneficiaries or participants involved in or impacted by proposed school improvement activities (e.g., students, parents, educators, administrators, Tribal leaders) to ensure services reflect their needs.

(5) Develop and implement a high-quality personnel management system to efficiently obtain and retain the services of nationally recognized technical and content experts and other consultants with direct experience working with SEAs, REAs, and LEAs. The Center must ensure that personnel have the appropriate expertise to deliver high-quality capacity-building services that meet client and recipient need and be staffed at a level sufficient for achieving the goals of its assigned projects and responsibilities.

(6) Develop and implement a comprehensive communication and dissemination plan that includes strategies to disseminate information in multiple formats and mediums (e.g., evidence-based practice tool kits, briefs, informational webinars) including through CCNetwork websites, social media, and other methods as appropriate, and strategies to measure and monitor the use of the information it disseminates. The plan must include approaches to determine, at the outset of each project, in consultation with clients, the most effective modality and methodology for capturing evidence-based practices and lessons learned, dissemination strategies customized and based on needs of the targeted audience(s), and strategies to monitor and measure audience engagement and use of information and products of the Center. Centers must work with partners to disseminate products through networks in which the targeted audiences are most likely to seek or receive information, with the goal of expanding the reach of Centers to the largest number of recipients possible.

(7) Identify and enter into partnership agreements with federally funded providers, State and national organizations, businesses, and industry experts, as applicable, to support States in the implementation and scaling-up of evidence-based programs, practices, and interventions, as well as reduce duplication of services and engagement burden to States. Where appropriate, the agreements should document how the partnerships might advance along a continuum to effectively meet program and client goals.

(8) Within 90 days of receiving funding for an award, demonstrate to the Department that it has secured client and partner commitments to carry out proposed annual service plans.

(9) Participate in a national evaluation of the Comprehensive Centers Program.

Program Requirements for National Comprehensive Center: In addition to the requirements for all Centers, National Center grantees under this program must:

(1) Design and implement robust needs-sensing activities and processes to consult with and integrate feedback from the Department, Regional and Content Centers, and advisory boards that surface high-leverage problems that could be effectively addressed in developing the national annual service plan.

(2) Collaborate with Regional and Content Centers to implement universal and targeted services for recipients to address high-leverage problems identified in the annual service plan. In providing targeted services (e.g., multi-State and cross-regional peer-to-peer exchanges or communities of practice on problems), the National Center must provide opportunities for recipients to learn from their peers and subject matter experts and apply evidence-based practices and must define tangible, achievable capacity-building outcomes for recipient participation. Universal services must be grounded in evidence-based practices, be produced in a manner that recipients are most likely to use, be shared via multiple digital platforms, such as the CCNetwork website, social media, and other channels as appropriate, and be relevant for a variety of education stakeholders, including the general public.

(3) Develop and implement a strategy to recruit and retain a comprehensive cadre of national subject matter experts that includes qualified education practitioners, researchers, policy professionals, and other consultants with (1) direct experience working in or with SEAs, REAs, TEAs and LEAs and (2) in-depth expertise in specific subject areas with an understanding of State contexts available to support universal and targeted services of the National Center and intensive capacity-building services of Regional Centers. Cadre experts must have a proven record of designing and implementing effective capacity-building services, using evidence effectively, and delivering quality adult learning experiences or professional development experiences that meet client and recipient needs and must have recognized subject matter expertise including publishing in peer-reviewed journals and presenting at national conferences on the ESEA programs or content areas for which they are engaged as experts to provide universal, targeted, or intensive capacity building.

(4) Reserve not less than one half of the annual budget to provide universal, targeted, and, as needed, intensive services to address topics 1-5 enumerated in the priority for this Center and as approved by the Department in the annual service plan.

(5) Include in the communications and dissemination plan, and implement processes for outreach activities (e.g., regular promotion of services and products to clients and potential and current recipients), use of feedback loops across organizational levels (Federal, State, and local), regular engagement and coordination with the Department, Regional Centers, and partner organizations (e.g., federally funded providers), and engagement of stakeholders involved in or impacted by proposed school improvement activities.

(6) Design and implement communications and dissemination vehicles for the CCNetwork, including maintaining the CCNetwork website with an easy-to-navigate design that meets government or industry recognized standards for accessibility, including compliance with Section 504 of the Rehabilitation Act of 1973, and maintain a consistent media presence, in collaboration with Regional and Content Centers and the Department Communications office, that promotes increased engagement.

(7) Develop peer learning opportunities for Regional and Content Center staff (and other partners, as appropriate) to address implementation challenges and scale effective practices to improve service delivery across the CCNetwork.

(8) Collect and share information about services provided through the CCNetwork for the purpose of coordination, collaboration, and communication across Centers and other providers, including an annual analysis of service plans to identify and disseminate information about services rendered across the CCNetwork.

(9) Ensure that the Project Director is capable of managing all aspects of the Center and is either staffed at 1 FTE or there are two Co-Project Directors each at a minimum of 0.75 FTE. The Project Director or Co-Project Directors and all key personnel must be able to provide services at the intensity, duration, and modality appropriate to achieving agreed-upon milestones, outputs, and outcomes described in annual service plans.

(10) Reserve not less than one third of the budget to address the program requirements for CCNetwork coordination (requirements 5 through 8).

Program Requirements for Regional Centers: In addition to the requirements for all Centers, Regional Center grantees under this program must:

(1) Actively coordinate and collaborate with the REL serving their region. Coordination must include annual joint need sensing in a manner designed to comprehensively inform service delivery across both programs while reducing burden on State agencies. The goals of this coordination and collaboration are to share, synthesize, and apply information, ideas, and lessons learned; to enable each type of provider to focus on its designated role; to ensure that work is non-duplicative; to streamline and simplify service provision to States and LEAs; and to collaborate on projects to better support regional stakeholders.

(2) Consult with a broad range of stakeholders, including chief State school officers and other SEA leaders, TEAs, LEAs, educators, students, and parents, and integrate their feedback in developing the annual service plan to reflect the needs of all States (and to the extent practicable, of LEAs) within the region to be served.

(3) In developing the annual service plan, ensure services are provided to support students and communities with the highest needs, including recipients: (i) that have high percentages or numbers of students from low-income families as referenced in title I, part A of the ESEA (ESEA sec. 1113(a)(5)); (ii) that are implementing comprehensive support and improvement activities or targeted or additional targeted support and improvement activities as referenced in title I, part A of the ESEA (ESEA sec. 1111(d)); (iii) in rural areas; and (iv) serving student populations with demonstrated needs unmet or under-met through other Federal, State, or local interventions.

(4) Explore and provide opportunities to connect peers within and across regions.

(5) Collaborate with the National Center and Content Centers, as appropriate, including to support client and recipient participation in targeted capacity-building services, and obtain and retain the services of nationally recognized content experts through partnership with the National Center, Content Centers, or other federally funded providers.

(6) Support the participation of Regional Center staff in CCNetwork peer learning opportunities, including sharing information about effective practices in the region, to extend the Center's reach to as many SEAs, REAs, TEAs, LEAs, and schools in need of services as possible while also learning about effective capacity-building approaches to enhance the Center's ability to provide high-quality services.

(7) Within 90 days of receiving funding for an award, provide to the Department copies of partnership agreements with the REL(s) in the region that the Center serves and, as appropriate, other Department-funded technical assistance providers that are charged with supporting comprehensive, systemic changes in States or Department-funded technical assistance providers with particular expertise (e.g., early learning or instruction for English language learners) relevant to the region's service plan. Partnership agreements must define processes for coordination and support collaboration to meet relevant program requirements.

(8) Be located in the region the Center serves. The Project Director must be capable of managing all aspects of the Center and be either at a minimum of 0.75 FTE or there must be two Co-Project Directors each at a minimum of 0.5 FTE. The Project Director or Co-Project Directors and key personnel must also be able to provide on-site services at the intensity, duration, and modality appropriate to achieving agreed-upon milestones, outputs, and outcomes described in annual service plans.

Program Requirements for Content Centers: In addition to the requirements for all Centers, Content Center grantees under this program must:

(1) Consult and integrate feedback from the Department and the National and Regional Centers in developing the annual service plan to inform high-quality tools, resources, and overall technical assistance in priority areas.

(2) Collaborate with Regional Centers to address specific requests for assistance from States within the regions and strengthen Regional Center staff knowledge and expertise on the evidence base and effective practices within its specific content area.

(3) Produce high-quality, universal capacity-building services, and identify, organize, select, and translate existing key research knowledge and Department guidance related to the Center's content area and examples of workable strategies and systems for implementing provisions and programs that have produced positive outcomes for schools and students, and communicate the information in ways that are highly relevant and useful to State- and local-level policymakers, practitioners, and relevant stakeholders.

(4) Collaborate with the National Center and Regional Centers to convene States and LEAs, researchers, and other experts, including other Federal entities and providers of technical assistance as identified by the Department, to learn from each other about practical strategies for implementing ESEA provisions and programs related to the Center's area of focus.

(5) Support the participation of Content Center staff in CCNetwork peer learning opportunities with the goal of providing high-quality services while reaching as many SEAs, REAs, TEAs, LEAs, and schools in need of services as possible.

(6) Within 90 days of receiving funding for an award, provide copies to the Department of partnership agreements with Department-funded technical assistance providers that are charged with supporting comprehensive, systemic changes in States or Department-funded technical assistance providers with particular expertise relevant to the Center's content area. Partnership agreements must define processes for coordination and support collaboration to meet relevant program requirements.

(7) The Project Director must be capable of managing all aspects of the Center and be either at a minimum of 0.75 FTE or there must be two Co-Project Directors each at a minimum of 0.5 FTE. The Project Director or Co-Project Directors and all key personnel must be able to provide services at the intensity, duration, and modality appropriate to achieving agreed-upon milestones, outputs, and outcomes described in annual service plans.

Application Requirements:

Application Requirements for All Centers:

(1) Present an approach to the proposed project for operating the Comprehensive Center that clearly establishes the critical educational challenges proposed to be addressed by the Center, the impact the Center plans to achieve, including the proposed scope of services in relation to the number of SEAs, REAs, TEAs, LEAs, and, as appropriate, schools served, with respect to specific State and local outcomes that would represent significant achievement in advancing the efforts of State and local systems to improve educational opportunities and student outcomes, and proposes how the Center will efficiently and effectively provide appropriate capacity-building services to achieve the desired outcomes.

(2) Present applicable regional, State, and local educational needs, including relevant data demonstrating the identified needs, and including the perspectives of underrepresented groups, that could be addressed through the proposed capacity-building approach to implement and scale up evidence-based programs, practices, and interventions.

(3) Demonstrate how key personnel possess subject matter expert knowledge of statutory requirements, regulations, and policies related to ESEA programs, current education issues, and policy initiatives for supporting the implementation and scaling up of evidence-based programs, practices, and interventions.

(4) Demonstrate expertise in providing highly relevant and highly effective technical assistance (e.g., that is co-designed with clients; demonstrably addresses authentic needs based on needs-sensing activities; is timely, relevant, useful, clear and measurable; and results in demonstrable improvements or outcomes), including by demonstrating expertise in the current research on adult learning principles, coaching, and implementation science that will drive the applicant's capacity-building services; how the applicant has successfully supported clients to achieve desired outcomes; and how the applicant will promote self-sufficiency and sustainability of State- and local-led school improvement activities.

(5) Present a logic model (as defined in 34 CFR 77.1) informed by research or evaluation findings that demonstrates a rationale (as defined in 34 CFR 77.1) explaining how the project is likely to improve or achieve relevant and expected outcomes. The logic model must communicate how the proposed project would achieve its expected outcomes (short-term, mid-term, and long-term), and provide a framework for both the formative and summative evaluations of the project consistent with the applicant's performance management plan. Include a description of underlying concepts, assumptions, expectations, beliefs, and theories, as well as the relationships and linkages among these variables, and any empirical support for this framework.

(6) Present a management plan that describes the applicant's proposed approach to managing the project to meet all program requirements related to needs assessment, stakeholder engagement, communications and dissemination, personnel management, and partnerships.

(7) Present a performance management and evaluation plan that describes the applicant's proposed approach to meeting the program requirements related to performance management, including the applicant's proposed strategy to report on defined program performance measures, and describes the criteria for determining the extent to which capacity-building services proposed in annual service plans were implemented as intended; recipient outcomes were met (short-term, midterm, and long-term); recipient capacity was developed; and services reached and were used by intended recipients.

(8) Include in the budget a line item for an annual set-aside of five percent of the grant amount to support emerging needs that are consistent with the proposed project's intended outcomes, as those needs are identified in consultation with, and approved by, the OESE program officer. With approval from the program officer, the project must reallocate any remaining funds from this annual set-aside no later than the end of the third quarter of each budget period.

Application Requirements for the National Center: In addition to meeting the application requirements for all Centers, a National Center applicant must:

(1) Describe the proposed approach to leading coordination and collaboration of the CCNetwork, and demonstrate expertise and experience in leading communication and digital engagement strategies to attract and sustain the involvement of education stakeholders, including, but not limited to: implementing a robust web and social media presence, overseeing customer relations management, providing editorial support to Regional and Content Centers, and utilizing web analytics to improve content engagement.

(2) Describe the proposed approach to providing targeted capacity-building services, including how the applicant intends to collaborate with Regional Centers to identify potential recipients and estimate how many SEAs, REAs, TEAs, and LEAs it has the capacity to reach; how it will measure the readiness and capacity of potential recipients; and how it will measure the extent to which targeted capacity-building services achieve intended recipient outcomes and result in increased recipient capacity (and specifically, increase capacity in one or more of the four dimensions of capacity-building).

(3) Describe the proposed approach to universal capacity-building services, including how many and which recipients it plans to reach and how the applicant intends to: measure the extent to which products and services developed address common problems; support recipients in the selection, implementation, and monitoring of evidence-based practices; improve the use of evidence with regard to emerging national education trends; and build recipient capacity in at least one of the four dimensions of capacity-building.

Application Requirements for Regional Centers:

In addition to meeting the application requirements for all Centers, a Regional Center applicant must—

(1) Describe the proposed approach to intensive capacity-building services, including identification of intended recipients based on available data in each of the content areas identified, alignment of proposed capacity-building services to client needs, and engagement of clients who may not initiate contact to request services. The applicant must also describe how it intends to measure the readiness of clients and recipients to work with the Center; co-design projects and define outcomes; measure and monitor client and recipient capacity across the four dimensions of capacity-building; and measure the outcomes achieved throughout and at the conclusion of a project.

(2) Demonstrate that proposed key personnel have the appropriate subject matter and technical assistance expertise to deliver high-quality, intensive services that meet client and recipient needs similar to those in the region to be served.

Application Requirements for Content Centers: In addition to meeting the application requirements for all Centers, a Content Center applicant must—

(1) Describe the proposed approach to carry out targeted capacity-building services that increase the use of evidence-based products or tools regarding the designated content area amongst practitioners, education system leaders, elementary schools and secondary schools, LEAs, REAs and TEAs, and SEAs.

(2) Describe the proposed approach to providing universal capacity-building services, including how it will develop evidence-based products or tools regarding the designated content area; widely disseminate such products or tools to practitioners, education system leaders, and policymakers in formats that are high quality, easily accessible, understandable, and actionable; identify intended recipients; and align proposed capacity-building services to client needs.

(3) Demonstrate that key personnel have appropriate subject matter and technical assistance expertise to translate evidence into high-quality technical assistance services and products for State and local clients, including expertise applying adult-learning principles and implementation science to the delivery of technical assistance services and products.

Final Definitions

The Department establishes definitions of “client,” “collaboration,” “coordination,” “educator,” “English learner,” “key personnel,” and “recipient,” for use in this program in any year in which this program is in effect.

We also replace certain terms established in the 2019 NFP. Specifically, although the 2019 NFP is not generally intended to be superseded by this action, we are establishing new definitions for the terms “high-leverage problem,” “outcomes,” and “regional educational agency” to better reflect how they are used in the program, including these final priorities, requirements, definitions, and selection criteria. Additionally, as established in the 2019 NFP, the term “capacity-building services” includes within it definitions for the “four dimensions of capacity-building services” and the “three tiers of capacity-building services.” In this NFP, we define these terms separately. Other than separating these terms, we have not made changes to the general term “capacity-building services” or the “four dimensions of capacity-building services” as established in the 2019 NFP; however, to reflect how they apply to the priorities in this document, we revised definitions for the three tiers of capacity-building services: “intensive capacity-building services,” “targeted capacity-building services,” and “universal capacity-building services.”

We also use in the priorities, requirements, and selection criteria, the following terms, which are defined in the ESEA: “immigrant children and youth,” “migratory child,” and “tribal educational agency” for use in this program in any year in which this program is in effect.

The priorities, requirements, and selection criteria also incorporate the following terms established for use in this program by the 2019 NFP: “milestone” and “outputs.” We have included the definitions of those terms in Appendix 1 to this document.

Capacity-building services means assistance that strengthens an individual's or organization's ability to engage in continuous improvement and achieve expected outcomes.

Client means the organization with which the Center enters into agreement for negotiated capacity-building services. The client is engaged in defining the high-leverage problems, capacity-building services, and time-based outcomes for each project noted in the Center's annual service plan. Representatives of clients include but are not limited to Chief State School Officers or their designees, LEA leaders, and other system leaders.

Collaboration means exchanging information, altering activities, and sharing in the creation of ideas and resources to enhance the capacity of one another for mutual benefit to accomplish a common goal.

Coordination means exchanging information, altering activities, and synchronizing efforts to make unique contributions to shared goals.

Educator means an individual who is a teacher (including an early education teacher), principal or other school leader, administrator, specialized instructional support personnel (e.g., school psychologist, counselor, school social worker, librarian, early intervention service personnel), paraprofessional, faculty, and others.

English learner means an individual who is an English learner as defined in section 8101(20) of the ESEA, or an individual who is an English language learner as defined in section 203(7) of the Workforce Innovation and Opportunity Act.

Four dimensions of capacity-building services are:

(1) Human capacity means development or improvement of individual knowledge, skills, technical expertise, and ability to adapt and be resilient to policy and leadership changes.

(2) Organizational capacity means structures that support clear communication and a shared understanding of an organization's visions and goals, and delineated individual roles and responsibilities in functional areas.

(3) Policy capacity means structures that support alignment, differentiation, or enactment of local, State, and Federal policies and initiatives.

(4) Resource capacity means tangible materials and assets that support alignment and use of Federal, State, private, and local funds.

High-leverage problems means problems that (1) if addressed could result in substantial improvements for groups of students with the greatest need, including for students from low-income families and for students attending schools implementing comprehensive support and improvement or targeted or additional targeted support and improvement activities under ESEA section 1111(d)); (2) are priorities for education policymakers, particularly at the State level; and (3) require intensive capacity-building services to achieve outcomes that address the problem.

Immigrant children and youth have the meaning ascribed in section 3201(5) of the ESEA.

Intensive capacity-building services means assistance often provided on-site and requiring a stable, ongoing relationship between the Comprehensive Center and its clients and recipients, as well as periodic reflection, continuous feedback, and use of evidence-based improvement strategies. This category of capacity-building services should support increased recipient capacity in more than one dimension of capacity-building services and result in medium-term and long-term outcomes at one or more system levels.

Key personnel means any personnel considered to be essential to the work being performed on the project.

Migratory child has the meaning ascribed it in section 1309(3) of the ESEA.

Outcomes means demonstrable effects of receiving capacity-building services and must reflect the result of capacity built in at least one of the four dimensions of capacity building. “Outcomes” includes short-term outcomes, medium-term outcomes, and long-term outcomes:

(1) Short-term outcomes means effects of receiving capacity-building services after 1 year.

(2) Medium-term outcomes means effects of receiving capacity-building services after 2 to 3 years.

(3) Long-term outcomes means effects of receiving capacity-building services after 4 or more years.

Recipient means organizations including, but not limited to, SEAs, LEAs, REAs, TEAs, and schools that have received “intensive” and “targeted” capacity-building services and products from Regional Centers, or that received “targeted” or “universal” capacity-building services and products from the National Center or Content Centers.

Regional educational agency means educational agencies that serve regional areas within a State.

Targeted capacity-building services means assistance based on needs common to multiple clients and recipients and not extensively individualized. A relationship is established between the recipient(s), the National Center or Content Center, and Regional Center(s), as appropriate. This category of capacity-building services includes one-time, labor-intensive events, such as facilitating strategic planning or hosting national or regional conferences. It can also include services that extend over a period of time, such as facilitating a series of conference calls, virtual or in-person meetings, or learning communities on single or multiple topics that are designed around the needs of the recipients. Facilitating communities of practice can also be considered targeted capacity-building services.

Tribal educational agency has the meaning ascribed in section 6132(b)(3) of the ESEA.

Universal capacity-building services means assistance and information provided to independent users through their own initiative, involving minimal interaction with National or Content Center staff. This category of capacity-building services includes information or products, such as newsletters, guidebooks, policy briefs, or research syntheses, downloaded from the Center's website by independent users, and may include one-time, invited or offered webinar or conference presentations by National or Content Center staff. Brief communications or consultations by National or Content Center staff with recipients, either by telephone or email, are also considered universal services.

Final Selection Criteria

The Secretary establishes the following selection criteria for evaluating an application under this program. We may apply one or more of these criteria in any year in which this program is in effect. In the NIA we will announce the maximum possible points available under each criterion.

Approach to Capacity Building. In determining the overall quality of the approach to capacity building of the proposed project, the Secretary may consider one or more of the following factors.

(1) The extent to which the proposed project represents an exceptional approach to responding to the priority or priorities established for the competition that will likely result in building SEA capacity to implement State-level initiatives and support local- and school-level initiatives that improve educational opportunities and outcomes, close achievement gaps, and improve the quality of instruction for all students.

(2) The extent to which the applicant demonstrates an exceptional approach to developing and delivering high-quality, useful, and relevant capacity-building services that are likely to achieve desired recipient outcomes, including—

(a) In the case of an applicant for the National Center, targeted and universal capacity-building services that would be expected to assist SEAs, REAs, TEAs, LEAs, and Regional Center clients and recipients, including those who do not proactively request assistance, to address the activities described in the priority;

(b) In the case of an applicant for a Regional Center, intensive capacity-building services that would be expected to assist clients and recipients to address the activities described in the priority; and

(c) In the case of an applicant for a Content Center, targeted and universal capacity-building services that would be expected to assist clients and recipients, including those who do not proactively request assistance, to address activities described in the priority related to the designated content area.

(3) The extent to which the proposed approach to capacity building provides strategies that address the technical assistance needs of State and local educational systems in key areas of identified need, as evidenced by in-depth knowledge and understanding of—

(a) In the case of an applicant for the National Center, implementation challenges faced by States; evidence-based practices related to teaching, learning, and development; needs of schools designated for improvement; needs to improve core instruction; and emerging education topics of national importance;

(b) In the case of an applicant for a Regional Center, the specific educational goals and priorities of the States to be served by the applicant, including emerging priorities based on State-led reform efforts, and the applicable State and regional demographics, policy contexts, and other factors and their relevance to improving educational opportunities and outcomes, closing achievement gaps, and improving instruction; and

(c) In the case of an applicant for a Content Center, State technical assistance needs and evidence-based practices related to the Content Center priority for which the applicant is applying.

(4) In the case of an applicant for the National Center, the extent to which the approach to capacity building and management plans propose an exceptional approach to meeting the application requirements for the National Center.

(5) In the case of an applicant for a Regional Center, the extent to which the applicant's approach to capacity building proposes an exceptional approach to meeting the application requirements for all Regional Centers.

(6) In the case of an applicant for a Content Center, the extent to which the applicant's approach to capacity building proposes an exceptional approach to meeting the application requirements for all Content Centers.

Quality of Project Design. In determining the quality of the project design of the proposed Center for which the applicant is applying, the Secretary may consider one or more of the following factors.

(1) The extent to which the proposed performance management and evaluation system and processes demonstrate an exceptional approach to integrating continuous improvement processes and evaluation that will result in regular and ongoing improvement in the quality of the services provided and increase the likelihood that recipient outcomes are achieved.

(2) The extent to which the proposed stakeholder engagement system is likely to result in a high level of engagement with multiple potential beneficiaries or participants involved in or impacted by the proposed capacity-building activities to ensure that the proposed services reflect their needs, are delivered in a manner that is relevant and useful, and reach the largest number of recipients possible.

(3) The extent to which the proposed personnel management system includes effective processes to enable hiring, developing, supervising, and retaining a team of subject matter and technical assistance experts, consultants and professional staff, and ensure availability of appropriate expertise and staffing at a level sufficient to effectively execute the responsibilities of key personnel to achieve the goals of the project.

(4) The extent to which the proposed partnerships represent an intentional approach to collaboration that is likely to reduce client burden and to ensure that Federal resources are being used most efficiently and effectively to meet a variety of needs across federally funded providers.

(5) In the case of an applicant for the National Center, the extent to which the proposed project represents an exceptional management approach to coordination, collaboration, and communication of the complex work of the CCNetwork.

Subject Matter and Technical Assistance Expertise. In determining the subject matter and technical assistance expertise of key project personnel, the Secretary considers the extent to which the applicant encourages applications for employment from persons who are members of groups that have historically been underrepresented based on race, color, national origin, gender, age, or disability.

In addition, the Secretary may consider one or more of the following factors.

(1) The extent to which key project personnel demonstrate the required subject matter expertise and relevant knowledge, understanding, and experience in operating and administering State and local educational systems to effectively support recipients.

(2) The extent to which the applicant has demonstrated exceptional technical assistance expertise in providing high-quality, timely, relevant, and useful technical assistance and capacity-building services to State and local educational systems.

(3) The extent to which the applicant has demonstrated the ability to develop new and ongoing partnerships with leading experts and organizations nationwide or regionally, as appropriate, that enhance its ability to provide high-quality technical assistance and subject matter expertise.

(4) In the case of an applicant for the National Center, the extent to which the applicant has demonstrated ability in operating a project of such scope.

This document does not preclude the Department from proposing additional priorities, requirements, definitions, or selection criteria, subject to meeting applicable rulemaking requirements.

Note: This document does not solicit applications. In any year in which we choose to use one or more of these priorities, requirements, selection criteria, and definitions, we invite applications through a notice in the Federal Register.

Executive Orders 12866, 13563, and 14094

Regulatory Impact Analysis

Under Executive Order 12866, the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (as of 2023 but adjusted every 3 years by the Administrator of the Office of Information and Regulatory Affairs (OIRA) of OMB for changes in gross domestic product), or adversely affect in a material way the economy, a sector of the economy, productivity, competition, jobs, the environment, public health or safety, or State, local, territorial, or Tribal governments;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles stated in the Executive order, as specifically authorized in a timely manner by the Administrator of OIRA in each case.

This final regulatory action is not a significant regulatory action subject to review by OMB under section 3(f) of Executive Order 12866, as amended by Executive Order 14094.

We have also reviewed this final regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The costs are those resulting from statutory requirements and those we have determined as necessary for administering the Department's programs and activities. The Department believes that this regulatory action would not impose significant costs on eligible entities, whose participation in the Comprehensive Centers Program is voluntary, and whose costs can generally be covered with grant funds. As a result, the regulatory action will not impose any particular burden, except when an entity voluntarily elects to apply for a grant. The priorities, requirements, definitions, and selection criteria help ensure that the grant program selects a high-quality applicant to implement activities that meet the goals of the program for each Center. We believe these benefits outweigh any associated costs.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at www.federalregister.gov. Specifically, through the advanced search feature at this site, you can limit your search to documents published by the Department.

Adam Schott,
Principal Deputy Assistant Secretary Delegated the Authority to Perform the Functions and Duties of the Assistant Secretary Office of Elementary and Secondary Education.

Appendix I

The final priorities, requirements, and selection criteria incorporate the following terms established for use in this program by the 2019 NFP:

Milestone means an activity that must be completed. Examples include: Identifying key district administrators responsible for professional development, sharing key observations from needs assessment with district administrators and identified stakeholders, preparing a logic model, planning for State-wide professional development, identifying subject matter experts, and conducting train-the-trainer sessions.

Outputs means products and services that must be completed. Examples include: Needs assessment, logic model, training modules, evaluation plan, and 12 workshop presentations.

Note: A product output under this program would be considered a deliverable under the open licensing regulations at 2 CFR 3474.20.

[FR Doc. 2024-09877 Filed 5-10-24; 8:45 am]

BILLING CODE 4000-01-P